DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is updating the entries of 462 persons on OFAC's Specially Designated National and Blocked Persons List (SDN List).

DATES: See SUPPLEMENTARY INFORMATION section.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The Specially Designated Nationals and Blocked Persons (SDN) List and additional information concerning OFAC sanctions programs are available on OFAC's website (www.treasury.gov/ofac).

Notice of OFAC Actions

On September 20, 2017, the President issued Executive Order 13810 (E.O. 13810), “Imposing Additional Sanctions With Respect to North Korea.” Section 4 of E.O. 13810 authorizes the Secretary of the Treasury, in consultation with the Secretary of State, to impose sanctions on foreign financial institutions upon determining that the foreign financial institution has, on or after the effective date of E.O. 13810, knowingly conducted or facilitated any significant transaction, among others, on behalf of any person whose property and interests in property are blocked pursuant to Executive Order 13551 of August 30, 2010, Executive Order 13687 of January 2, 2015, Executive Order 13722 of March 15, 2016, or E.O. 13810, or of any person whose property and interests in property are blocked pursuant to Executive Order 13382 in connection with North Korea-related activities. Accordingly, OFAC has added the reference “Secondary sanctions risk: North Korea Sanctions Regulations sections 510.201 and 510.210” to the SDN list entries for the 462 persons listed below.

Individuals

1. CHA, Sung Jun (a.k.a. CH′A, Su′ng-chun), Beijing, China; DOB 04 Jun 1966; nationality Korea, North; Secondary sanctions risk: North Korea Sanctions Regulations sections 510.201 and 510.210; Passport 472434355 (individual) [DPRK4].

2. CHANG, Chang-ha (a.k.a. JANG, Chang Ha); DOB 10 Jan 1964; Secondary sanctions risk: North Korea Sanctions Regulations sections 510.201 and 510.210; President of Second Academy of Natural Sciences (individual) [DPRK2] (Linked To: SECOND ACADEMY OF NATURAL SCIENCES).

3. CHANG, Kyong-hwa (a.k.a. JANG, Kyong Hwa); DOB 13 Nov 1951; Secondary sanctions risk: North Korea Sanctions Regulations sections 510.201 and 510.210; Official at Second Academy of Natural Sciences (individual) [DPRK2] (Linked To: SECOND ACADEMY OF NATURAL SCIENCES).

4. CHANG, Myong-Chin (a.k.a. JANG, Myong-Jin); DOB 1966; alt. DOB 1965; Secondary sanctions risk: North Korea Sanctions Regulations sections 510.201 and 510.210 (individual) [NPWMD].

5. CHANG, Wen-Fu (a.k.a. CHANG, Tony; a.k.a. ZHANG, Wen-Fu); DOB 01 Apr 1965; nationality Taiwan; Secondary sanctions risk: North Korea Sanctions Regulations sections 510.201 and 510.210; Passport 211606395 (Taiwan) (individual) [NPWMD].

6. CHI, Yupeng, Room 301, Unit 1, No. 129 Jiangcheng Street, Yuanbao District, Dandong City, Liaoning Province, China; DOB 22 May 1969; nationality China; Secondary sanctions risk: North Korea Sanctions Regulations sections 510.201 and 510.210; Gender Male; Passport E27979708 (China); National ID No. 210602196905220510 (China); Chairman and Majority Owner, Dandong Zhicheng Metallic Material Co., Ltd. (individual) [DPRK3] (Linked To: DANDONG ZHICHENG METALLIC MATERIAL CO., LTD.).

7. CHO, Chun-ryong (a.k.a. JO, Chun Ryong); DOB 04 Apr 1960; Secondary sanctions risk: North Korea Sanctions Regulations sections 510.201 and 510.210; Chairman of the Second Economic Committee (individual) [DPRK2] (Linked To: SECOND ECONOMIC COMMITTEE).

8. CHO, Il-U (a.k.a. CHO, Ch′o′l; a.k.a. CHO, Il Woo; a.k.a. JO, Chol), Korea, North; DOB 10 May 1945; POB Musan, North Hamgyo′ng Province, North Korea; nationality Korea, North; Secondary sanctions risk: North Korea Sanctions Regulations sections 510.201 and 510.210; Passport 736410010 (Korea, North); Director of the Fifth Bureau of the Reconnaissance General Bureau (individual) [DPRK2].

9. CHO, Yon Chun (a.k.a. JO, Yon Jun), Korea, North; DOB 28 Sep 1937; Secondary sanctions risk: North Korea Sanctions Regulations sections 510.201 and 510.210; First Vice Director of the Organization and Guidance Department (individual) [DPRK2].

10. CHOE, Chang Pong, Korea, North; DOB 02 Jun 1964; Secondary sanctions risk: North Korea Sanctions Regulations sections 510.201 and 510.210; Passport 381320227 (Korea, North) expires 29 Jul 2016; Director of the Investigation Bureau of the Ministry of People's Security (individual) [DPRK2].

11. CHOE, Chun Yong (a.k.a. CH′OE, Ch′un-yo′ng), Moscow, Russia; nationality Korea, North; Secondary sanctions risk: North Korea Sanctions Regulations sections 510.201 and 510.210; Gender Male; Passport 654410078 (Korea, North); Ilsim International Bank representative (individual) [DPRK3] (Linked To: ILSIM INTERNATIONAL BANK).

12. CHOE, Chun-sik (a.k.a. CHOE, Chun Sik; a.k.a. CH′OE, Ch′un-sik), Korea, North; DOB 12 Oct 1954; nationality Korea, North; Secondary sanctions risk: North Korea Sanctions Regulations sections 510.201 and 510.210 (individual) [NPWMD] (Linked To: SECOND ACADEMY OF NATURAL SCIENCES).

13. CHOE, Hwi, Korea, North; DOB 01 Jan 1954 to 31 Dec 1955; Secondary sanctions risk: North Korea Sanctions Regulations sections 510.201 and 510.210; Gender Male; First Vice Director of the Workers' Party of Korea Propaganda and Agitation Department (individual) [DPRK2].

14. CHOE, Pu Il (a.k.a. CH′OE, Pu-il; a.k.a. CHOI, Bu-il), Korea, North; DOB 06 Mar 1944; Secondary sanctions risk: North Korea Sanctions Regulations sections 510.201 and 510.210; Minister of People's Security (individual) [DPRK3] (Linked To: MINISTRY OF PEOPLE'S SECURITY).

15. CH′OE, So′k-min, Shenyang, China; DOB 25 Jul 1978; nationality Korea, North; Secondary sanctions risk: North Korea Sanctions Regulations sections 510.201 and 510.210; Foreign Trade Bank of the Democratic People's Republic of Korea representative (individual) [DPRK2].

16. CHOE, Song Il, Vietnam; DOB 08 Jun 1973; citizen Korea, North; Secondary sanctions risk: North Korea Sanctions Regulations sections 510.201 and 510.210; Passport 472320665 (Korea, North) expires 26 Sep 2017; alt. Passport 563120356 (Korea, North) issued 19 Mar 2018; Tanchon Commercial Bank Representative in Vietnam (individual) [NPWMD] (Linked To: TANCHON COMMERCIAL BANK).

17. CHOE, Song Nam (a.k.a. CH′OE, So′ng-nam), Shenyang, China; DOB 07 Jan 1979; Secondary sanctions risk: North Korea Sanctions Regulations sections 510.201 and 510.210; Passport 563320192 expires 09 Aug 2018; Korea Daesong Bank Representative (individual) [DPRK4].

18. CHU, Hyo′k (a.k.a. JU, Hyok), Vladivostok, Russia; DOB 23 Nov 1986; nationality Korea, North; Secondary sanctions risk: North Korea Sanctions Regulations sections 510.201 and 510.210; Gender Male; Passport 836420186 (Korea, North) issued 28 Oct 2016 expires 28 Oct 2021; Foreign Trade Bank of the Democratic People's Republic of Korea representative (individual) [DPRK4].

19. CHU, Kyu-Chang (a.k.a. CHU, Kyu-Ch′ang; a.k.a. JU, Kyu-Chang); DOB 25 Nov 1928; POB Hamju County, South Hamgyong Province, Democratic People's Republic of Korea; Secondary sanctions risk: North Korea Sanctions Regulations sections 510.201 and 510.210 (individual) [NPWMD].

20. HAN, Jang Su (a.k.a. HAN, Chang-su), Moscow, Russia; DOB 08 Nov 1969; POB Pyongyang; nationality Korea, North; Secondary sanctions risk: North Korea Sanctions Regulations sections 510.201 and 510.210; Gender Male; Passport 745420176 expires 19 Oct 2020; Foreign Trade Bank chief representative (individual) [NPWMD].

21. HAN, Kwon U (a.k.a. HAN, Kon U; a.k.a. HAN, Ko′n-u; a.k.a. HAN, Kwo′n-u), Zhuhai, China; DOB 21 Aug 1962; Secondary sanctions risk: North Korea Sanctions Regulations sections 510.201 and 510.210; Passport 745434880; Korea Ryonbong General Corporation Representative in Zhuhai, China (individual) [DPRK2].

22. HO, Yong Il (a.k.a. HO′, Yo′ng-il), Dandong, China; DOB 09 Sep 1968; Secondary sanctions risk: North Korea Sanctions Regulations sections 510.201 and 510.210 (individual) [DPRK4].

23. HONG, Jinhua, China; DOB 19 Jan 1972; nationality China; Secondary sanctions risk: North Korea Sanctions Regulations sections 510.201 and 510.210; National Foreign ID Number 210604197201190322 (China); Deputy General Manager, Dandong Hongxiang Industrial Development Co Ltd (individual) [NPWMD] (Linked To: DANDONG HONGXIANG INDUSTRIAL DEVELOPMENT CO LTD).

24. HUISH, Irina Igorevna (a.k.a. BURLOVA, Irina), Russia; South Africa; DOB 18 Jan 1973; Secondary sanctions risk: North Korea Sanctions Regulations sections 510.201 and 510.210; Gender Female (individual) [DPRK3] (Linked To: VELMUR MANAGEMENT PTE LTD).

25. HUSSAIN, Mavungal; DOB 03 Jun 1961; Secondary sanctions risk: North Korea Sanctions Regulations sections 510.201 and 510.210 (individual) [DPRK2] (Linked To: KOREA MINING DEVELOPMENT TRADING CORPORATION).

26. HWANG, Pyong So (a.k.a. HWANG, Pyo′ng-so′), Korea, North; DOB 1940; Secondary sanctions risk: North Korea Sanctions Regulations sections 510.201 and 510.210; Vice Chairman of the National Defense Commission (individual) [DPRK2] (Linked To: NATIONAL DEFENSE COMMISSION).

27. HWANG, Su Man (a.k.a. HWANG, Kyong Nam); DOB 06 Apr 1955; nationality Korea, North; Secondary sanctions risk: North Korea Sanctions Regulations sections 510.201 and 510.210; Passport 472220033 (Korea, North) (individual) [DPRK2] (Linked To: KOREA MINING DEVELOPMENT TRADING CORPORATION).

28. HYON, Gwang Il (a.k.a. HYON, Kwang Il), Korea, North; DOB 27 May 1961; nationality Korea, North; Secondary sanctions risk: North Korea Sanctions Regulations sections 510.201 and 510.210; Department Director at the National Aerospace Development Administration (individual) [NPWMD] (Linked To: NATIONAL AEROSPACE DEVELOPMENT ADMINISTRATION).

29. JANG, Bom Su (a.k.a. JANG, Hyon U; a.k.a. JANG, Pom Su), Syria; DOB 15 Apr 1957; alt. DOB 22 Feb 1958; citizen Korea, North; Secondary sanctions risk: North Korea Sanctions Regulations sections 510.201 and 510.210; Diplomatic Passport 836110034 expires 01 Jan 2020; Tanchon Commercial Bank Representative in Syria (individual) [NPWMD] (Linked To: TANCHON COMMERCIAL BANK).

30. JANG, Song Chol; DOB 12 Mar 1967; nationality Korea, North; Secondary sanctions risk: North Korea Sanctions Regulations sections 510.201 and 510.210; KOMID representative in Russia (individual) [DPRK2].

31. JANG, Sung Nam, Dalian, China; DOB 14 Jul 1970; Secondary sanctions risk: North Korea Sanctions Regulations sections 510.201 and 510.210; Gender Male; Passport 563120368 (Korea, North) issued 22 Mar 2013 expires 22 Mar 2018; Chief of the Tangun Trading Corporation branch in Dalian, China (individual) [NPWMD] (Linked To: KOREA TANGUN TRADING CORPORATION).

32. JANG, Yong Son; DOB 20 Feb 1957; nationality Korea, North; Secondary sanctions risk: North Korea Sanctions Regulations sections 510.201 and 510.210; KOMID Representative in Iran (individual) [DPRK2].

33. JI, Sang Jun (a.k.a. CHI, Sang-chun), Moscow, Russia; DOB 03 May 1971; Secondary sanctions risk: North Korea Sanctions Regulations sections 510.201 and 510.210 (individual) [DPRK4].

34. JO, Chol Song (a.k.a. CHO, Ch′o′l-so′ng), Dandong, China; DOB 25 Sep 1984; nationality Korea, North; Secondary sanctions risk: North Korea Sanctions Regulations sections 510.201 and 510.210; Gender Male; Passport 654320502 expires 16 Sep 2019; Korea Kwangson Banking Corporation Deputy Representative (individual) [NPWMD] (Linked To: KOREA KWANGSON BANKING CORP).

35. JO, Kyong-Chol (a.k.a. CHO, Kyo′ng-ch′o′l), Korea, North; DOB 1944 to 1945; POB Korea, North; nationality Korea, North; Secondary sanctions risk: North Korea Sanctions Regulations sections 510.201 and 510.210; DPRK Director of Military Security Command (individual) [DPRK2].

36. JO, Yong Chol (a.k.a. CHO, Yong Chol), Syria; DOB 30 Sep 1973; nationality Korea, North; Secondary sanctions risk: North Korea Sanctions Regulations sections 510.201 and 510.210; North Korea's Ministry of State Security Official (individual) [DPRK2].

37. JO, Yong-Won (a.k.a. CHO, Yongwon), Korea, North; DOB 24 Oct 1957; Secondary sanctions risk: North Korea Sanctions Regulations sections 510.201 and 510.210; Gender Male; Vice Director of the Organization and Guidance Department (individual) [DPRK2].

38. JON, Myong Guk (a.k.a. CHO′N, Myo′ng-kuk; a.k.a. JON, Yong Sang), Syria; DOB 18 Oct 1976; alt. DOB 25 Aug 1976; Secondary sanctions risk: North Korea Sanctions Regulations sections 510.201 and 510.210; Passport 4721202031 (Korea, North) expires 21 Feb 2017; Diplomatic Passport 836110035 expires 01 Jan 2020; Tanchon Commercial Bank Representative in Syria (individual) [NPWMD] (Linked To: TANCHON COMMERCIAL BANK).

39. JONG, Man Bok (a.k.a. CHO′NG, Man-pok), Dandong, China; DOB 23 Dec 1958; nationality Korea, North; Secondary sanctions risk: North Korea Sanctions Regulations sections 510.201 and 510.210; Gender Male; Korea Ryonbong General Corporation Representative in Dandong, China (individual) [DPRK2].

41. JONG, Yong Su, Korea, North; DOB 15 Dec 1950; nationality Korea, North; Secondary sanctions risk: North Korea Sanctions Regulations sections 510.201 and 510.210; Gender Male; Passport 563310172; Minister of Labor (individual) [DPRK2].

42. KANG, Chol Su, Linjiang, China; DOB 13 Feb 1969; Secondary sanctions risk: North Korea Sanctions Regulations sections 510.201 and 510.210; Passport 472234895 (Korea, North); Korea Ryonbong General Corporation Official (individual) [NPWMD] (Linked To: KOREA RYONBONG GENERAL CORPORATION).

43. KANG, Min, Beijing, China; DOB 07 May 1980; nationality Korea, North; Secondary sanctions risk: North Korea Sanctions Regulations sections 510.201 and 510.210; Gender Male; Passport 563132918 expires 04 Feb 2018; Korea Daesong Bank representative (individual) [DPRK4].

44. KANG, Mun-kil (a.k.a. JIAN, WenJi), Korea, North; nationality Korea, North; Secondary sanctions risk: North Korea Sanctions Regulations sections 510.201 and 510.210; Passport PS 472330208 (Korea, North) expires 04 Jul 2017 (individual) [NPWMD] (Linked To: NAMCHONGANG TRADING CORPORATION).

45. KANG, P′il-Hun (a.k.a. KANG, Phil Hun; a.k.a. KANG, Pil Hoon), Korea, North; DOB 11 Jun 1943; Secondary sanctions risk: North Korea Sanctions Regulations sections 510.201 and 510.210; Gender Male; Director of the General Political Bureau of the Ministry of People's Security (individual) [DPRK2].

46. KANG, Ryong; DOB 21 Aug 1968; nationality Korea, North; Secondary sanctions risk: North Korea Sanctions Regulations sections 510.201 and 510.210; KOMID official in Syria (individual) [DPRK2].

47. KANG, Song Nam, Korea, North; DOB 28 Jul 1962; POB North P′yo′ngan Province, North Korea; citizen Korea, North; Secondary sanctions risk: North Korea Sanctions Regulations sections 510.201 and 510.210; Passport 654410025 (Korea, North) expires 14 Oct 2019; Bureau Director (individual) [DPRK3] (Linked To: MINISTRY OF STATE SECURITY).

48. KIL, Jong Hun; DOB 20 Feb 1972; nationality Korea, North; Secondary sanctions risk: North Korea Sanctions Regulations sections 510.201 and 510.210; Passport 472410022; KOMID Representative in Namibia (individual) [DPRK2].

49. KIM, Chol (a.k.a. KIM, Ch′o′l), Dalian, China; DOB 27 Sep 1964; Secondary sanctions risk: North Korea Sanctions Regulations sections 510.201 and 510.210; Korea United Development Bank Representative (individual) [DPRK4].

50. KIM, Chol Nam, Korea, North; DOB 19 Feb 1970; Secondary sanctions risk: North Korea Sanctions Regulations sections 510.201 and 510.210; Passport 563120238 (Korea, North); President of Korea Kumsan Trading Corporation (individual) [NPWMD] (Linked To: KOREA KUMSAN TRADING CORPORATION).

51. KIM, Chol Sam; DOB 11 Mar 1971; nationality Korea, North; Secondary sanctions risk: North Korea Sanctions Regulations sections 510.201 and 510.210; Treasurer, Daedong Credit Bank (individual) [NPWMD].

52. KIM, Ho Kyu (a.k.a. KIM, Ho Gyu; a.k.a. KIM, Ho′-kyu; a.k.a. KIM, Ho-Kyu; a.k.a. PARK, Aleksei), Nakhodka, Russia; DOB 15 Sep 1970; nationality Korea, North; Secondary sanctions risk: North Korea Sanctions Regulations sections 510.201 and 510.210; Gender Male; Korea Ryonbong General Corporation Official (individual) [DPRK2].

53. KIM, Hyok Chol (a.k.a. KIM, Hyo′k-ch′o′l), Zhuhai, China; DOB 09 Jul 1978; Secondary sanctions risk: North Korea Sanctions Regulations sections 510.201 and 510.210; Passport 472235761 expires 06 Jun 2017; Korea United Development Bank representative (individual) [DPRK4].

54. KIM, Il-Nam (a.k.a. KIM, Il Nam), Korea, North; DOB 09 Apr 1958; Secondary sanctions risk: North Korea Sanctions Regulations sections 510.201 and 510.210; Gender Male; Chief, South Hamgyong Province, Ministry of State Security (individual) [DPRK2].

55. KIM, Jong Man (a.k.a. KIM, Cho′ng-man), Korea, North; Zhuhai, China; DOB 16 Jul 1956; nationality Korea, North; Secondary sanctions risk: North Korea Sanctions Regulations sections 510.201 and 510.210; Passport 918320780; Korea United Development Bank representative (individual) [DPRK4].

56. KIM, Jong Sik (a.k.a. KIM, Cho′ng-sik), Korea, North; DOB 01 Jan 1967 to 31 Dec 1969; Secondary sanctions risk: North Korea Sanctions Regulations sections 510.201 and 510.210; Gender Male; Deputy Director of the Workers' Party of Korea Military Industry Department (individual) [DPRK2].

57. KIM, Jong Un, Korea, North; DOB 08 Jan 1984; Secondary sanctions risk: North Korea Sanctions Regulations sections 510.201 and 510.210; Chairman of the Workers' Party of Korea (individual) [DPRK3].

58. KIM, Jung Jong (a.k.a. KIM, Chung Chong), Vietnam; DOB 07 Nov 1966; Secondary sanctions risk: North Korea Sanctions Regulations sections 510.201 and 510.210; Passport 199421147 (Korea, North) expires 29 Dec 2014; alt. Passport 381110042 (Korea, North) expires 25 Jan 2016; alt. Passport 563210184 (Korea, North) expires 18 Jun 2018; Tanchon Commercial Bank Representative in Vietnam (individual) [NPWMD] (Linked To: TANCHON COMMERCIAL BANK).

59. KIM, Kang Jin (a.k.a. KIM, Kang-chin), Korea, North; DOB 22 Apr 1961; POB Pyongyang, North Korea; nationality Korea, North; Secondary sanctions risk: North Korea Sanctions Regulations sections 510.201 and 510.210; Gender Male; Director, External Construction Bureau (individual) [DPRK2].

60. KIM, Ki Nam, Korea, North; DOB 28 Aug 1929; Secondary sanctions risk: North Korea Sanctions Regulations sections 510.201 and 510.210; Director of the Workers' Party of Korea Propaganda and Agitation Department (individual) [DPRK2].

61. KIM, Kwang Chun; DOB 20 Apr 1967; Secondary sanctions risk: North Korea Sanctions Regulations sections 510.201 and 510.210; Korea Ryungseng Trading Corporation Representative in Shenyang, China (individual) [DPRK2].

62. KIM, Kwang Hyok, Burma; DOB 20 Apr 1970; nationality Korea, North; Secondary sanctions risk: North Korea Sanctions Regulations sections 510.201 and 510.210; Passport 654210025 (Korea, North); Korean Mining Development Trading Corporation Representative in Burma (individual) [DPRK2] (Linked To: KOREA MINING DEVELOPMENT TRADING CORPORATION).

63. KIM, Kwang Yon; DOB 30 Jul 1966; nationality Korea, North; Secondary sanctions risk: North Korea Sanctions Regulations sections 510.201 and 510.210; Passport 563210059 (individual) [DPRK2].

64. KIM, Kwang-Il, Beijing, China; nationality Korea, North; Secondary sanctions risk: North Korea Sanctions Regulations sections 510.201 and 510.210; Tanchon Commercial Bank Deputy Representative to Beijing, China (individual) [NPWMD].

65. KIM, Kyong Hak (a.k.a. KIM, Kyo′ng-hak), Zhuhai, China; DOB 27 Nov 1973; nationality Korea, North; Secondary sanctions risk: North Korea Sanctions Regulations sections 510.201 and 510.210; Passport 654231856; Korea Ryonbong General Corporation Representative in Zhuhai, China (individual) [DPRK2].

66. KIM, Kyong Hyok (a.k.a. KIM, Kyo′ng-hyo′k), Shanghai, China; DOB 05 Nov 1985; Secondary sanctions risk: North Korea Sanctions Regulations sections 510.201 and 510.210; Cheil Credit Bank representative (individual) [DPRK4].

67. KIM, Kyong Il (a.k.a. KIM, Kyo′ng-il), Libya; DOB 01 Aug 1979; Secondary sanctions risk: North Korea Sanctions Regulations sections 510.201 and 510.210; Gender Male; Passport 836210029; Foreign Trade Bank of the Democratic People's Republic of Korea deputy chief representative in Libya (individual) [DPRK2].

68. KIM, Kyong Nam (a.k.a. KIM, Kyo′ng-Nam), Russia; DOB 11 Jul 1976; nationality Korea, North; Secondary sanctions risk: North Korea Sanctions Regulations sections 510.201 and 510.210; Foreign Trade Bank of the Democratic People's Republic of Korea Representative in Russia (individual) [NPWMD] (Linked To: FOREIGN TRADE BANK OF THE DEMOCRATIC PEOPLE'S REPUBLIC OF KOREA).

69. KIM, Kyong Ok (a.k.a. KIM, Kyong Ok), Korea, North; DOB 01 Jan 1937 to 31 Dec 1938; Secondary sanctions risk: North Korea Sanctions Regulations sections 510.201 and 510.210; First Vice Director of the Organization and Guidance Department (individual) [DPRK2].

70. KIM, Kyu; DOB 30 Jul 1968; nationality Korea, North; Secondary sanctions risk: North Korea Sanctions Regulations sections 510.201 and 510.210; KOMID External Affairs Officer (individual) [DPRK2].

71. KIM, Man Chun (a.k.a. KIM, Man-ch′un), No. 567 Xinshi Street, Linjiang City, China; DOB 25 May 1966; nationality Korea, North; Secondary sanctions risk: North Korea Sanctions Regulations sections 510.201 and 510.210; Gender Male; Passport PS654320308; Korea Ryonbong General Corporation Representative in Linjiang, China (individual) [DPRK2].

72. KIM, Min Chol, Vietnam; DOB 21 Sep 1967; POB North Korea; nationality Korea, North; Secondary sanctions risk: North Korea Sanctions Regulations sections 510.201 and 510.210; Diplomat at North Korean Embassy (individual) [DPRK2].

73. KIM, Mun Chol (a.k.a. KIM, Mun-ch′o′l), Dandong, China; DOB 25 Mar 1957; nationality Korea, North; Secondary sanctions risk: North Korea Sanctions Regulations sections 510.201 and 510.210; Korea United Development Bank representative (individual) [DPRK3] (Linked To: KOREA UNITED DEVELOPMENT BANK).

74. KIM, Nam Ung, Moscow, Russia; nationality Korea, North; Secondary sanctions risk: North Korea Sanctions Regulations sections 510.201 and 510.210; Passport 654110043 (Korea, North); Ilsim International Bank representative (individual) [DPRK3] (Linked To: ILSIM INTERNATIONAL BANK).

75. KIM, Pyong Chan (a.k.a. KIM, Pyo′ng-ch′an), Korea, North; Zhuhai, China; DOB 09 Jun 1961; Secondary sanctions risk: North Korea Sanctions Regulations sections 510.201 and 510.210; Workers' Party of Korea Official (individual) [DPRK2].

76. KIM, Sang-ho, Yanji, China; DOB 16 May 1957; Secondary sanctions risk: North Korea Sanctions Regulations sections 510.201 and 510.210; Passport 563337601; Korea Daesong Bank representative (individual) [DPRK4].

77. KIM, Se Gon; DOB 13 Nov 1969; Secondary sanctions risk: North Korea Sanctions Regulations sections 510.201 and 510.210; Passport 472310104 (Korea, North); Representative of Ministry of Atomic Energy Industry (individual) [NPWMD] (Linked To: MINISTRY OF ATOMIC ENERGY INDUSTRY).

78. KIM, Sok Chol, Burma; DOB 08 May 1955; nationality Korea, North; Secondary sanctions risk: North Korea Sanctions Regulations sections 510.201 and 510.210; Passport 472310082; North Korean Ambassador to Burma (individual) [DPRK2].

79. KIM, Song (a.k.a. KIM, So′ng), Linjiang, China; DOB 11 Jan 1964; nationality Korea, North; Secondary sanctions risk: North Korea Sanctions Regulations sections 510.201 and 510.210; Gender Male; Representative of the Korea Ryonbong General Corporation in Linjiang, China (individual) [DPRK2].

80. KIM, Song Chol (a.k.a. KIM, Hak Song); DOB 26 Mar 1968; alt. DOB 15 Oct 1970; nationality Korea, North; Secondary sanctions risk: North Korea Sanctions Regulations sections 510.201 and 510.210; Passport 654120219 (Korea, North) expires 24 Feb 2019; alt. Passport 381420565 (Korea, North) expires 23 Nov 2016 (individual) [NPWMD] (Linked To: KOREA MINING DEVELOPMENT TRADING CORPORATION).

81. KIM, Su-Kwang (a.k.a. KIM, Son-gwang; a.k.a. KIM, Son-kwang; a.k.a. KIM, Sou-gwang; a.k.a. KIM, Sou-kwang; a.k.a. KIM, Su-gwang); DOB 18 Aug 1976; Secondary sanctions risk: North Korea Sanctions Regulations sections 510.201 and 510.210; Gender Male (individual) [DPRK2].

82. KIM, Tong Chol (a.k.a. KIM, Tong-ch′o′l), Shenyang, China; DOB 28 Jan 1966; Secondary sanctions risk: North Korea Sanctions Regulations sections 510.201 and 510.210; Foreign Trade Bank of the Democratic People's Republic of Korea official (individual) [DPRK2].

83. KIM, Tong-chol, 34 Herbst Street, Windhoek, Namibia; DOB 07 Aug 1968; POB North Korea; Secondary sanctions risk: North Korea Sanctions Regulations sections 510.201 and 510.210; Gender Male; Passport 472336944 issued 10 Sep 2012 expires 10 Sep 2017; Managing Director, Mansudae Overseas Projects; Director, Mansudae Overseas Projects Architectural and Technical Services (PTY) Ltd.; Deputy Managing Director, Qingdao Construction (Namibia) CC (individual) [DPRK3] (Linked To: MANSUDAE OVERSEAS PROJECT GROUP OF COMPANIES; Linked To: MANSUDAE OVERSEAS PROJECTS ARCHITECTURAL AND TECHNICAL SERVICES (PTY) LIMITED; Linked To: QINGDAO CONSTRUCTION (NAMIBIA) CC).

84. KIM, Tong-ho, Vietnam; DOB 18 Aug 1969; nationality Korea, North; Secondary sanctions risk: North Korea Sanctions Regulations sections 510.201 and 510.210; Gender Male; Passport 745310111 (Korea, North); Tanchon Commercial Bank representative (individual) [DPRK3].

85. KIM, Tong-Myo′ng (a.k.a. KIM, CHIN-SO′K; a.k.a. KIM, HYOK CHOL; a.k.a. KIM, TONG MYONG; a.k.a. “KIM, JIN SOK”); DOB 1964; alt. DOB 28 Aug 1962; nationality Korea, North; Secondary sanctions risk: North Korea Sanctions Regulations sections 510.201 and 510.210; Passport 290320764 (individual) [NPWMD] (Linked To: TANCHON COMMERCIAL BANK).

86. KIM, Won Hong (a.k.a. KIM, Wo′n-hong), Korea, North; DOB 17 Jul 1945; Secondary sanctions risk: North Korea Sanctions Regulations sections 510.201 and 510.210; Gender Male; Minister of State Security (individual) [DPRK2].

87. KIM, Yo Jong (a.k.a. KIM, Yo′-cho′ng), Korea, North; DOB 26 Sep 1989; Secondary sanctions risk: North Korea Sanctions Regulations sections 510.201 and 510.210; Gender Female; Vice Director of the Workers' Party of Korea Propaganda and Agitation Department (individual) [DPRK2].

88. KIM, Yong Chol (a.k.a. KIM, Yong-Chol; a.k.a. KIM, Young-Cheol; a.k.a. KIM, Young-Chol; a.k.a. KIM, Young-Chul); DOB circa 1947; alt. DOB circa 1946; alt. POB Pyongan-Pukto, North Korea; Secondary sanctions risk: North Korea Sanctions Regulations sections 510.201 and 510.210 (individual) [DPRK].

89. KIM, Yong Chol; DOB 18 Feb 1962; nationality Korea, North; Secondary sanctions risk: North Korea Sanctions Regulations sections 510.201 and 510.210; KOMID Representative in Iran (individual) [DPRK2].

90. KIM, Yong Su (a.k.a. KIM, Yo′ng-su), Vietnam; DOB 09 Feb 1969; nationality Korea, North; Secondary sanctions risk: North Korea Sanctions Regulations sections 510.201 and 510.210; Gender Male; Passport 654435458 expires 26 Nov 2019; Chief Representative of the Marine Transport Office in Vietnam (individual) [DPRK2].

91. KIRAKOSYAN, Ruben Ruslanovich, Russia; DOB 03 Mar 1980; citizen Russia; Gender Male; Secondary sanctions risk: North Korea Sanctions Regulation section 510.210 (individual) [NPWMD] (Linked To: GEFEST-M LLC; Linked To: KOREA TANGUN TRADING CORPORATION).

92. KO, Chol Man (a.k.a. KO, Ch′o′l-man), Shenyang, China; DOB 30 Sep 1967; Secondary sanctions risk: North Korea Sanctions Regulations sections 510.201 and 510.210; Passport 472420180; Foreign Trade Bank of the Democratic People's Republic of Korea representative (individual) [DPRK2].

93. KO, Ch′o′l-Chae, Dalian, China; nationality Korea, North; Secondary sanctions risk: North Korea Sanctions Regulations sections 510.201 and 510.210; Deputy Representative, KOMID (individual) [NPWMD].

94. KO, Il Hwan (a.k.a. KO, Il-hwan), Shenyang, China; DOB 28 Aug 1967; nationality Korea, North; Secondary sanctions risk: North Korea Sanctions Regulations sections 510.201 and 510.210; Gender Male; Passport 927220424 expires 12 Jun 2022; Korea Daesong Bank Official (individual) [DPRK4].

95. KO, Tae Hun (a.k.a. KIM, Myong Gi); DOB 25 May 1972; Secondary sanctions risk: North Korea Sanctions Regulations sections 510.201 and 510.210; Passport 563120630 (Korea, North) expires 20 Mar 2018; Tanchon Commercial Bank Representative (individual) [NPWMD] (Linked To: TANCHON COMMERCIAL BANK).

96. KOLCHANOV, Vasili Aleksandrovich (Cyrillic: ) (a.k.a. KOLCHANOV, Vasiliy Aleksandrovich; a.k.a. KOLCHANOV, Vasily); DOB 25 Mar 1946; Secondary sanctions risk: North Korea Sanctions Regulations, sections 510.201 and 510.210; Profinet Director General (individual) [DPRK4] (Linked To: PROFINET PTE. LTD.).

97. KU, Ja Hyong (a.k.a. KU, Cha-hyo′ng), Libya; DOB 08 Sep 1957; Secondary sanctions risk: North Korea Sanctions Regulations sections 510.201 and 510.210; Gender Male; Foreign Trade Bank of the Democratic People's Republic of Korea chief representative in Libya (individual) [DPRK2].

98. KU, Sung Sop (a.k.a. KU, Seung Sub; a.k.a. KU, Su′ng-so′p; a.k.a. KU, Young Hyok), Shenyang, China; DOB 07 Nov 1959; POB Pyongan-bukdo, North Korea; nationality Korea, North; Secondary sanctions risk: North Korea Sanctions Regulations sections 510.201 and 510.210; Passport 321233 (Korea, North); Consul General, Shenyang, China (individual) [DPRK2].

99. KWAK, Chong-chol (a.k.a. KWAK, Jong-chol), Dubai, United Arab Emirates; DOB 01 Jan 1975; nationality Korea, North; Secondary sanctions risk: North Korea Sanctions Regulations sections 510.201 and 510.210; Gender Male; Passport 563220533 (Korea, North) (individual) [DPRK4].

100. LAI, Leonard (a.k.a. LAI, Yong Chian); DOB 16 Jun 1958; Secondary sanctions risk: North Korea Sanctions Regulations sections 510.201 and 510.210; Passport E3251534E (Singapore) expires 20 Mar 2018 (individual) [DPRK].

102. LUO, Chuanxu, China; DOB 15 Jan 1986; Secondary sanctions risk: North Korea Sanctions Regulations sections 510.201 and 510.210; National Foreign ID Number 210621198601152385 (China); Financial Manager, Dandong Hongxiang Industrial Development Co Ltd (individual) [NPWMD] (Linked To: DANDONG HONGXIANG INDUSTRIAL DEVELOPMENT CO LTD).

103. MA, Xiaohong, China; DOB 15 Dec 1971; nationality China; Secondary sanctions risk: North Korea Sanctions Regulations sections 510.201 and 510.210; Passport G31122619 (China) issued 02 Sep 2008 expires 01 Sep 2018; National Foreign ID Number 210603197112150023 (China); Director of Dandong Hongxiang Industrial Development Co Ltd (individual) [NPWMD] (Linked To: DANDONG HONGXIANG INDUSTRIAL DEVELOPMENT CO LTD).

104. MICHURIN, Igor Aleksandrovich, Russia; DOB 27 Jun 1978; Secondary sanctions risk: North Korea Sanctions Regulations sections 510.201 and 510.210; Gender Male; Passport 8908104469 (individual) [NPWMD] (Linked To: KOREA TANGUN TRADING CORPORATION; Linked To: ARDIS-BEARINGS LLC).

105. MIN, Byong Chol (a.k.a. MIN, Byong Chun; a.k.a. MIN, Byong-chol; a.k.a. MIN, Pyo′ng-ch′o′l), Korea, North; DOB 10 Aug 1948; Secondary sanctions risk: North Korea Sanctions Regulations sections 510.201 and 510.210; Gender Male; Member of the Worker's Party of Korea's Organization and Guidance Department (individual) [DPRK2].

106. MUN, Cho′ng-Ch′o′l, C/O Tanchon Commercial Bank, Saemaeul 1-Dong, Pyongchon District, Pyongyang, Korea, North; nationality Korea, North; Secondary sanctions risk: North Korea Sanctions Regulations sections 510.201 and 510.210; Tanchon Commercial Bank Representative (individual) [NPWMD].

107. MUN, Kyong Hwan (a.k.a. MUN, Kyo'ng-hwan), Korea, North; Dandong, China; DOB 22 Aug 1967; nationality Korea, North; Secondary sanctions risk: North Korea Sanctions Regulations sections 510.201 and 510.210; Passport 381120660 expires 25 Mar 2016; Bank of East Land representative (individual) [DPRK4].

108. O, Chong Ok (a.k.a. O, Chong Euk; a.k.a. O, Chong-kuk), Korea, North; DOB 01 Jan 1953 to 31 Dec 1953; POB North Hamgyo'ng Province, North Korea; Secondary sanctions risk: North Korea Sanctions Regulations sections 510.201 and 510.210; Director of the First Bureau of the Reconnaissance General Bureau (individual) [DPRK2].

109. O, Kuk-Ryol (a.k.a. O, Ku′k-ryo′l), Korea, North; DOB 07 Jan 1930; POB Onso'ng County, North Hambuk Province, Democratic People's Republic of Korea; Secondary sanctions risk: North Korea Sanctions Regulations sections 510.201 and 510.210; Vice Chairman of the National Defense Commission (individual) [NPWMD] [DPRK2] (Linked To: NATIONAL DEFENSE COMMISSION).

110. PAE, Won Uk (a.k.a. PAE, Wo′n-uk), Beijing, China; DOB 22 Aug 1969; nationality Korea, North; Secondary sanctions risk: North Korea Sanctions Regulations sections 510.201 and 510.210; Gender Male; Passport 472120208 (Korea, North) expires 22 Feb 2017; Korea Daesong Bank representative (individual) [DPRK4].

111. PAEK, Chang-Ho (a.k.a. PAEK, Ch′ang-Ho; a.k.a. PAK, Chang-Ho); DOB 18 Jun 1964; POB Kaesong, DPRK; Secondary sanctions risk: North Korea Sanctions Regulations sections 510.201 and 510.210; Passport 381420754 issued 07 Dec 2011 expires 07 Dec 2016 (individual) [NPWMD].

112. PAEK, Jong Sam (a.k.a. PAEK, Chong-sam), Shenyang, China; DOB 17 Jan 1964; nationality Korea, North; Secondary sanctions risk: North Korea Sanctions Regulations sections 510.201 and 510.210 (individual) [DPRK4].

113. PAEK, Se-Bong (a.k.a. PAEK, Se Pong); DOB 21 Mar 1938; Secondary sanctions risk: North Korea Sanctions Regulations sections 510.201 and 510.210; Chairman, Second Economic Committee (individual) [NPWMD].

114. PAK, Bong Nam (a.k.a. LUI, Wai Ming; a.k.a. PAK, Pong Nam; a.k.a. PAK, Pong-nam), Shenyang, China; DOB 06 May 1969; Secondary sanctions risk: North Korea Sanctions Regulations sections 510.201 and 510.210; ILSIM International Bank Representative in Shenyang, China (individual) [DPRK4].

115. PAK, Chol Nam (a.k.a. PAK, Ch′o′l-nam), Beijing, China; DOB 16 Jun 1971; nationality Korea, North; Secondary sanctions risk: North Korea Sanctions Regulations sections 510.201 and 510.210; Passport 745420413 expires 19 Nov 2020; Cheil Credit Bank representative in Beijing (individual) [DPRK4].

116. PAK, Chun Il, Egypt; DOB 28 Jul 1954; nationality Korea, North; Secondary sanctions risk: North Korea Sanctions Regulations sections 510.201 and 510.210; Passport 563410091 (Korea, North); North Korean Ambassador to Egypt (individual) [DPRK2].

117. PAK, Han Se (a.k.a. KANG, Myong Chol), Korea, North; Secondary sanctions risk: North Korea Sanctions Regulations sections 510.201 and 510.210; Passport 290410121 (Korea, North); Vice Chairman of the Second Economic Committee (individual) [NPWMD] (Linked To: SECOND ECONOMIC COMMITTEE).

118. PAK, Il-Kyu (a.k.a. PAK, Il-Gyu), Shenyang, China; Secondary sanctions risk: North Korea Sanctions Regulations sections 510.201 and 510.210; Gender Male; Passport 563120235; Korea Ryonbong General Corporation Official (individual) [NPWMD] (Linked To: KOREA PUGANG TRADING CORPORATION).

119. PAK, Kwang Hun (a.k.a. BAK, Gwang Hun; a.k.a. PAK, Gwang Hun; a.k.a. PAK, Kwang-hun), Vladivostok, Russia; DOB 01 Jan 1970 to 31 Dec 1970; nationality Korea, North; Secondary sanctions risk: North Korea Sanctions Regulations sections 510.201 and 510.210; Gender Male; Representative of Korea Ryonbong General Corporation in Vladivostok, Russia (individual) [DPRK2].

120. PAK, Mun Il (a.k.a. PAK, Mun-il), Yanji, China; DOB 01 Jan 1965; nationality Korea, North; Secondary sanctions risk: North Korea Sanctions Regulations sections 510.201 and 510.210; Gender Male; Passport 563335509 expires 27 Aug 2018; Korea Daesong Bank official (individual) [DPRK4].

121. PAK, To-Chun (a.k.a. PAK, Do Chun; a.k.a. PAK, To′-Ch′un); DOB 09 Mar 1944; POB Nangim County, Chagang Province, Democratic People's Republic of Korea; Secondary sanctions risk: North Korea Sanctions Regulations sections 510.201 and 510.210 (individual) [NPWMD].

122. PAK, Tong Sok (a.k.a. PAK, Tong-So′k), Abkhazia, Georgia; DOB 15 Apr 1965; nationality Korea, North; Secondary sanctions risk: North Korea Sanctions Regulations sections 510.201 and 510.210; Passport 745120209 (Korea, North) expires 26 Feb 2020; Korea Ryonbong General Corporation Official (individual) [DPRK2].

123. PAK, Yong Sik (a.k.a. PAK, Yo′ng-sik), Korea, North; DOB 1950; Secondary sanctions risk: North Korea Sanctions Regulations sections 510.201 and 510.210; Member of the Workers' Party of Korea Central Military Commission (individual) [DPRK2] (Linked To: WORKERS' PARTY OF KOREA CENTRAL MILITARY COMMISSION).

124. PANG, Su Nam (a.k.a. PANG, So-nam; a.k.a. PANG, Sunam), Zhuhai, China; DOB 01 Oct 1964; Secondary sanctions risk: North Korea Sanctions Regulations sections 510.201 and 510.210; Passport 472110138; ILSIM International Bank representative in Zhuhai, China (individual) [DPRK2] [DPRK4].

125. PARK, Jin Hyok (a.k.a. DAVID, Andoson; a.k.a. HENNY, Watson; a.k.a. KIM, Hyon U; a.k.a. KIM, Hyon Woo; a.k.a. KIM, Hyon Wu; a.k.a. PAK, Ch′in-hyo′k; a.k.a. PAK, Jin Hek; a.k.a. PAK, Jin Hyok); DOB 15 Aug 1984; alt. DOB 18 Oct 1984; Gender Male; Secondary sanctions risk: North Korea Sanctions Regulations, sections 510.201 and 510.210; Passport 290333974 (Korea, North) (individual) [DPRK3].

126. PISKLIN, Mikhail Yur′evich, Russia; DOB 01 Dec 1980; Secondary sanctions risk: North Korea Sanctions Regulations sections 510.201 and 510.210; Gender Male; Passport 71 0588176 (individual) [DPRK3].

127. RA, Kyong-Su (a.k.a. CHANG, MYONG HO; a.k.a. CHANG, MYONG-HO; a.k.a. CHANG, MYO′NG-HO), Beijing, China; Secondary sanctions risk: North Korea Sanctions Regulations sections 510.201 and 510.210; Tanchon Commercial Bank Representative to Beijing, China (individual) [NPWMD] (Linked To: TANCHON COMMERCIAL BANK).

128. RI, Chong Chol (a.k.a. RI, Jong Chol); DOB 12 Apr 1970; Secondary sanctions risk: North Korea Sanctions Regulations sections 510.201 and 510.210; Passport 199110092 (Korea, North) expires 17 Mar 2014; alt. Passport 472220503 (Korea, North) expires 06 Jun 2018; alt. Passport 654220197 (Korea, North) expires 07 May 2019 (individual) [DPRK2] (Linked To: KOREA MINING DEVELOPMENT TRADING CORPORATION).

129. RI, Chun Hwan (a.k.a. RI, Ch′un-hwan), Zhuhai, China; DOB 21 Aug 1957; Secondary sanctions risk: North Korea Sanctions Regulations sections 510.201 and 510.210; Passport 563233049 expires 09 May 2018; Foreign Trade Bank of the Democratic People's Republic of Korea representative (individual) [DPRK2].

130. RI, Chun Song (a.k.a. RI, Ch′un-so′ng), Beijing, China; DOB 30 Oct 1965; Secondary sanctions risk: North Korea Sanctions Regulations sections 510.201 and 510.210; Passport 654133553 expires 11 Mar 2019; Foreign Trade Bank of the Democratic People's Republic of Korea representative (individual) [DPRK2].

131. RI, Ho Nam (a.k.a. RI, Ho-nam), Beijing, China; DOB 03 Jan 1967; nationality Korea, North; Secondary sanctions risk: North Korea Sanctions Regulations sections 510.201 and 510.210; Passport 654120210 expires 21 Feb 2019; Ryugyong Commercial Bank representative (individual) [DPRK4].

132. RI, Hong-Sop, c/o General Bureau of Atomic Energy, Haeudong, Pyongchen District, Pyongyang, Korea, North; DOB 1940; nationality Korea, North; Secondary sanctions risk: North Korea Sanctions Regulations sections 510.201 and 510.210 (individual) [NPWMD].

133. RI, Jae Il (a.k.a. RI, Chae-Il), Korea, North; DOB 01 Jan 1934 to 31 Dec 1934; Secondary sanctions risk: North Korea Sanctions Regulations sections 510.201 and 510.210; First Vice Director of the Workers' Party of Korea Propaganda and Agitation Department (individual) [DPRK2].

134. RI, Je-Son (a.k.a. RI, Che-Son), c/o General Bureau of Atomic Energy, Haeudong, Pyongchen District, Pyongyang, Korea, North; DOB 1938; nationality Korea, North; Secondary sanctions risk: North Korea Sanctions Regulations sections 510.201 and 510.210 (individual) [NPWMD].

135. RI, Jong Won (a.k.a. RI, Cho′ng-Wo′n; a.k.a. RI, Jung Won), Moscow, Russia; DOB 22 Apr 1971; Secondary sanctions risk: North Korea Sanctions Regulations, sections 510.201 and 510.210; Passport PS654320421 expires 11 Mar 2019 (individual) [DPRK2].

136. RI, Man Gon, Korea, North; DOB 1945; Secondary sanctions risk: North Korea Sanctions Regulations sections 510.201 and 510.210 (individual) [DPRK2].

137. RI, Myong Hun (a.k.a. RI, Myo′ng-hun), Korea, North; DOB 14 Mar 1969; Secondary sanctions risk: North Korea Sanctions Regulations sections 510.201 and 510.210; Gender Male; Passport 381420089 expires 11 Oct 2016 (individual) [DPRK2].

138. RI, Pyong Chol (a.k.a. RI, Pyo′ng-ch′o′l), Korea, North; DOB 01 Jan 1948 to 31 Dec 1948; Secondary sanctions risk: North Korea Sanctions Regulations sections 510.201 and 510.210; Gender Male; First Vice Department Director of the Workers' Party of Korea Central Committee (individual) [DPRK2].

139. RI, Song Chol (a.k.a. RI, So′ng-ch′o′l), Korea, North; DOB 15 Aug 1959; Secondary sanctions risk: North Korea Sanctions Regulations sections 510.201 and 510.210; Passport 290210124 (Korea, North) expires 24 May 2015; Ministry of People's Security Counselor (individual) [DPRK3] (Linked To: MINISTRY OF PEOPLE'S SECURITY).

140. RI, Song-hyok (a.k.a. LI, Cheng He), Beijing, China; DOB 19 Mar 1965; Secondary sanctions risk: North Korea Sanctions Regulations sections 510.201 and 510.210; Gender Male; Passport 654234735 (Korea, North) (individual) [DPRK3].

141. RI, Su Yong, Cuba; DOB 25 Jun 1968; nationality Korea, North; Secondary sanctions risk: North Korea Sanctions Regulations sections 510.201 and 510.210; Gender Male; Passport 654310175; Korea Ryonbong General Corporation Official (individual) [NPWMD] (Linked To: KOREA RYONBONG GENERAL CORPORATION).

142. RI, Thae Chol (a.k.a. RI, Tae-Chol; a.k.a. RI, T′ae-Ch′o′l); DOB 01 Jan 1947 to 31 Dec 1947; nationality Korea, North; Secondary sanctions risk: North Korea Sanctions Regulations sections 510.201 and 510.210; DPRK First Vice Minister of People's Security (individual) [DPRK2] (Linked To: KOREAN PEOPLE'S ARMY).

143. RI, Tok Jin (a.k.a. RI, To′k-chin), Ji′an, China; DOB 26 Jul 1957; nationality Korea, North; Secondary sanctions risk: North Korea Sanctions Regulations sections 510.201 and 510.210; Korea Ryonbong General Corporation Representative in Ji′an, China (individual) [DPRK2].

144. RI, U′n-so′ng (a.k.a. RI, Eun Song; a.k.a. RI, Un Song), Moscow, Russia; DOB 23 Jul 1969; Secondary sanctions risk: North Korea Sanctions Regulations sections 510.201 and 510.210; Korea United Development Bank representative (individual) [DPRK4].

145. RI, Won Ho, Egypt; DOB 17 Jul 1964; citizen Korea, North; Secondary sanctions risk: North Korea Sanctions Regulations sections 510.201 and 510.210; Passport 381310014 (Korea, North) expires 12 Jul 2016; North Korea's Ministry of State Security Official (individual) [DPRK2].

146. RI, Yong Mu (a.k.a. RI, Yong-Mu), Korea, North; DOB 25 Jan 1925; POB South Pyo′ngan Province, Pyo′ngso′ng; Secondary sanctions risk: North Korea Sanctions Regulations sections 510.201 and 510.210; Vice Chairman of the National Defense Commission (individual) [DPRK2] (Linked To: NATIONAL DEFENSE COMMISSION).

147. RYANG, Tae Chol (a.k.a. RYANG, Tae-ch′o′l), Tumen, China; DOB 07 Jan 1969; nationality Korea, North; Secondary sanctions risk: North Korea Sanctions Regulations sections 510.201 and 510.210; Gender Male; Representative of the Korea Ryonbong General Corporation in Tumen, China (individual) [DPRK2].

148. RYOM, Hui-bong (a.k.a. RYO′M, Hu′i-pong), Dubai, United Arab Emirates; DOB 18 Sep 1961; nationality Korea, North; Secondary sanctions risk: North Korea Sanctions Regulations sections 510.201 and 510.210; Gender Male; Passport 745120026 (Korea, North) (individual) [DPRK4].

149. RYU, Jin; DOB 07 Aug 1965; nationality Korea, North; Secondary sanctions risk: North Korea Sanctions Regulations sections 510.201 and 510.210; Passport 563410081; KOMID official in Syria (individual) [DPRK2].

150. SERBIN, Andrey, Russia; DOB 01 Nov 1986; Secondary sanctions risk: North Korea Sanctions Regulations sections 510.201 and 510.210; Gender Male (individual) [DPRK3].

151. SIN, Yong Il (a.k.a. SHIN, Yong Il; a.k.a. SIN, Yo′ng Il), Korea, North; DOB 28 Feb 1948; nationality Korea, North; Secondary sanctions risk: North Korea Sanctions Regulations sections 510.201 and 510.210; Passport PD654210116 (Korea, North); Deputy Director of the Military Security Command (individual) [DPRK2].

152. SON, Jong Hyok (a.k.a. SON, Min), Egypt; DOB 20 May 1980; nationality Korea, North; Secondary sanctions risk: North Korea Sanctions Regulations sections 510.201 and 510.210 (individual) [NPWMD] (Linked To: KOREA MINING DEVELOPMENT TRADING CORPORATION).

153. SON, Mun San; DOB 23 Jan 1951; Secondary sanctions risk: North Korea Sanctions Regulations sections 510.201 and 510.210; External Affairs Bureau Chief, General Bureau of Atomic Energy (individual) [NPWMD].

154. STEIGER, Jakob, c/o KOHAS AG, Fribourg, FR, Switzerland; DOB 27 Apr 1941; POB Altstatten, SG, Switzerland; Secondary sanctions risk: North Korea Sanctions Regulations sections 510.201 and 510.210 (individual) [NPWMD].

155. SU, Lu-Chi (a.k.a. TSAI SU, Lu-Chi), C/O TRANS MERITS CO. LTD., Taipei, Taiwan; C/O GLOBAL INTERFACE COMPANY INC., Taipei, Taiwan; DOB 07 Feb 1950; alt. DOB Nov 1950; POB Yun Lin Hsien, Taiwan; Secondary sanctions risk: North Korea Sanctions Regulations sections 510.201 and 510.210; Passport 210215095 (Taiwan); Corporate Officer (individual) [NPWMD].

156. SUN, Sidong, Liaoning, China; DOB 11 May 1976; POB Dandong, China; Secondary sanctions risk: North Korea Sanctions Regulations sections 510.201 and 510.210; Gender Male; Passport G55296890 (China) issued 15 Sep 2011 expires 14 Sep 2021; National ID No. 210623197605112215 (individual) [DPRK4].

158. TSAI, Hsein Tai (a.k.a. TSAI, ALEX H.T.), C/O TRANS MERITS CO. LTD, Taipei, Taiwan; C/O GLOBAL INTERFACE COMPANY INC., Taipei, Taiwan; DOB 08 Aug 1945; POB Tainan, Taiwan; Secondary sanctions risk: North Korea Sanctions Regulations sections 510.201 and 510.210; Passport 131134049 (Taiwan); General Manager—GLOBAL INTERFACE COMPANY INC. (individual) [NPWMD].

160. YO'N, Cho'ng-Nam, Dalian, China; nationality Korea, North; Secondary sanctions risk: North Korea Sanctions Regulations sections 510.201 and 510.210; Chief Representative, KOMID (individual) [NPWMD].

161. YU, Chol U, Korea, North; DOB 08 Aug 1959; Secondary sanctions risk: North Korea Sanctions Regulations sections 510.201 and 510.210; Director, National Aerospace Development Administration (individual) [DPRK2] (Linked To: NATIONAL AEROSPACE DEVELOPMENT ADMINISTRATION).

162. YU, Kwang Ho; DOB 18 Oct 1956; nationality Korea, North; Secondary sanctions risk: North Korea Sanctions Regulations sections 510.201 and 510.210 (individual) [DPRK2].

163. YUN, Ho-Jin (a.k.a. YUN, Ho-Chin), c/o Namchongang Trading Corporation, Pyongyang, Korea, North; DOB 13 Oct 1944; nationality Korea, North; Secondary sanctions risk: North Korea Sanctions Regulations sections 510.201 and 510.210 (individual) [NPWMD].

164. ZHOU, Jianshu (a.k.a. CHOW, Tony), China; DOB 15 Jul 1971; nationality China; Secondary sanctions risk: North Korea Sanctions Regulations sections 510.201 and 510.210; Passport E09598913 (China) issued 14 Apr 2014 expires 13 Apr 2024; National Foreign ID Number 210602197107153012 (China); General Manager, Dandong Hongxiang Industrial Development Co Ltd (individual) [NPWMD] (Linked To: DANDONG HONGXIANG INDUSTRIAL DEVELOPMENT CO LTD).

Entities

1. 7-28 Democratic People's Republic of Korea flag; Secondary sanctions risk: North Korea Sanctions Regulations sections 510.201 and 510.210; Vessel Registration Identification IMO 8898831 (vessel) [DPRK4] (Linked To: YUSONG SHIPPING CO).

2. ACADEMY OF NATIONAL DEFENSE SCIENCE, Pyongyang, Korea, North; Secondary sanctions risk: North Korea Sanctions Regulations sections 510.201 and 510.210 [NPWMD].

3. AGRICULTURAL DEVELOPMENT BANK, Korea, North; Secondary sanctions risk: North Korea Sanctions Regulations sections 510.201 and 510.210 [DPRK4].

4. AIR KORYO (a.k.a. AIRKORYO), Sunan District, Pyongyang, Korea, North; Swissotel, Hongkong-Macau Center, Dong Si Shi Tiao Li Jiao Qiao, Beijing 10027, China; Chilbosan Hotel, No 81, Shyiwei Road, Heping District, Shenyang, China; Room 412, XinHui Bldg, No 1197 Rd Husong, District SongJiang, Shanghai, China; Soon Vijai Conominun, Room 208, Floor 2, New Petchburi Road, Khwaeng Bangkapi, Huai Khwang, Bangkok 10310, Thailand; Airport, 45, Portovaya Street, Artyom, Primorski Krai 692760, Russia; Mosfilimovskaya 72, Moscow 101000, Russia; Friedrichstr 106B, Berlin 10117, Germany; 20-114, Level 20, Menara Safuan, No.80, Jalan Ampang, Kuala Lumpur 50450, Malaysia; Office 10, 2nd floor, Mghateer complex 31, Block 40, Al Farwaniyah, Kuwait; Secondary sanctions risk: North Korea Sanctions Regulations sections 510.201 and 510.210 [DPRK3].

5. AM NOK GANG (a.k.a. AP ROK GANG) General Cargo Democratic People's Republic of Korea flag; Secondary sanctions risk: North Korea Sanctions Regulations sections 510.201 and 510.210; Vessel Registration Identification IMO 8132835 (vessel) [DPRK].

6. AMROGGANG DEVELOPMENT BANK (a.k.a. AMNOKKANG DEVELOPMENT BANK), Tongan-dong, Pyongyang, Korea, North; Secondary sanctions risk: North Korea Sanctions Regulations sections 510.201 and 510.210 [NPWMD].

7. AN SAN 1 Democratic People's Republic of Korea flag; Secondary sanctions risk: North Korea Sanctions Regulations sections 510.201 and 510.210; Vessel Registration Identification IMO 7303803 (vessel) [DPRK4] (Linked To: KOREA ANSAN SHIPPING COMPANY).

8. AO NNK-PRIMORNEFTEPRODUCT (a.k.a. IPC-PRIMORNEFTEPRODUCT JSC; a.k.a. NNK-PRIMORNEFTEPRODUKT, AO; a.k.a. OAO PRIMORNEFTEPRODUCT), 55 Ul. Fontannaya, Vladivostok, Primorskiy Krai 690091, Russia; Secondary sanctions risk: North Korea Sanctions Regulations sections 510.201 and 510.210 [DPRK3] (Linked To: INDEPENDENT PETROLEUM COMPANY).

9. ARDIS-BEARINGS LLC, Office 35, Number2, 1/13/6 Pokrovka Street, Moscow 101000, Russia; Secondary sanctions risk: North Korea Sanctions Regulations sections 510.201 and 510.210 [NPWMD] (Linked To: KOREA TANGUN TRADING CORPORATION).

10. ASIA BRIDGE 1 8,015DWT; Secondary sanctions risk: North Korea Sanctions Regulations sections 510.201 and 510.210; Vessel Registration Identification IMO 8916580 (vessel) [DPRK4] (Linked To: HUAXIN SHIPPING HONGKONG LTD).

11. BAEK MA KANG General Cargo Democratic People's Republic of Korea flag; Secondary sanctions risk: North Korea Sanctions Regulations sections 510.201 and 510.210; Vessel Registration Identification IMO 7944683 (vessel) [DPRK].

12. BANK OF EAST LAND (a.k.a. DONGBANG BANK; a.k.a. TONGBANG BANK; a.k.a. TONGBANG U′NHAENG), PO Box 32, BEL Building, Jonseung-Dong, Moranbong District, Pyongyang, Korea, North; SWIFT/BIC BOELKPPY; Secondary sanctions risk: North Korea Sanctions Regulations sections 510.201 and 510.210 [DPRK].

14. BELLA Russia flag; Secondary sanctions risk: North Korea Sanctions Regulations, sections 510.201 and 510.210; Vessel Registration Identification IMO 8808264 (vessel) [DPRK4] (Linked To: GUDZON SHIPPING CO LLC).

15. BOGATYR Russia flag; Secondary sanctions risk: North Korea Sanctions Regulations, sections 510.201 and 510.210; Vessel Registration Identification IMO 9085730 (vessel) [DPRK4] (Linked To: GUDZON SHIPPING CO LLC).

16. CENTRAL BANK OF THE DEMOCRATIC PEOPLE'S REPUBLIC OF KOREA, 58-1 Mansu-dong, Sungri Street, Central District, Pyongyang, Korea, North; Secondary sanctions risk: North Korea Sanctions Regulations sections 510.201 and 510.210 [DPRK3].

18. CHEIL CREDIT BANK (a.k.a. FIRST CREDIT BANK; f.k.a. “KYONGYONG CREDIT BANK”), 3-18 Pyongyang Information Center, Potonggang District, Pyongyang, Korea, North; Beijing, China; Shenyang, China; Shanghai, China; SWIFT/BIC KYCBKPPY; Secondary sanctions risk: North Korea Sanctions Regulations sections 510.201 and 510.210 [DPRK4].

19. CH'OLHYO'N OVERSEAS CONSTRUCTION COMPANY, Kuwait; Algeria; Secondary sanctions risk: North Korea Sanctions Regulations sections 510.201 and 510.210 [DPRK3].

20. CHON MA SAN Democratic People's Republic of Korea flag; Secondary sanctions risk: North Korea Sanctions Regulations sections 510.201 and 510.210; Vessel Registration Identification IMO 8660313 (vessel) [DPRK4] (Linked To: KOREA ACHIM SHIPPING CO).

21. CHON MYONG 1 Democratic People's Republic of Korea flag; Secondary sanctions risk: North Korea Sanctions Regulations sections 510.201 and 510.210; Vessel Registration Identification IMO 8712362 (vessel) [DPRK4] (Linked To: CHONMYONG SHIPPING CO).

22. CHONG BONG Democratic People's Republic of Korea flag; Secondary sanctions risk: North Korea Sanctions Regulations sections 510.201 and 510.210; Vessel Registration Identification IMO 8909575 (vessel) [DPRK3] (Linked To: CHONGBONG SHIPPING CO LTD).

23. CHONG CHON GANG General Cargo Democratic People's Republic of Korea flag; Secondary sanctions risk: North Korea Sanctions Regulations sections 510.201 and 510.210; Vessel Registration Identification IMO 7937317 (vessel) [DPRK].

24. CHONG RIM 2 Democratic People's Republic of Korea flag; Secondary sanctions risk: North Korea Sanctions Regulations sections 510.201 and 510.210; Vessel Registration Identification IMO 8916293 (vessel) [DPRK3] (Linked To: OCEAN BUNKERING JV CO).

25. CHONGBONG SHIPPING CO LTD, Room 502, 90, Ponghak-dong, Pyongchon-guyok, Pyongyang, Korea, North; Secondary sanctions risk: North Korea Sanctions Regulations sections 510.201 and 510.210; Vessel Registration Identification IMO 5878589 [DPRK3].

26. CHONGCHONGANG SHIPPING COMPANY LIMITED (a.k.a. CHONG CHON GANG SHIPPING CO. LTD; a.k.a. CHONGCHONGANG SHIPPING CO LTD), 817, Haeun, Donghung-dong, Central District, Pyongyang, Korea, North; 817, Haeun, Tonghun-dong, Chung-gu, Pyongyang, Korea, North; Secondary sanctions risk: North Korea Sanctions Regulations sections 510.201 and 510.210; Identification Number IMO 5342883 [DPRK].

27. CHONMYONG SHIPPING CO (a.k.a. CHON MYONG SHIPPING COMPANY LIMITED), Kalrimgil 2-dong, Mangyongdae-guyok, Pyongyang, Korea, North; Saemaul 2-dong, Pyongchon-guyok, Pyongyang, Korea, North; Secondary sanctions risk: North Korea Sanctions Regulations sections 510.201 and 510.210; Company Number IMO 5571322 [DPRK4].

28. CK INTERNATIONAL LTD, c/o Korea Uljibong Shipping Co., Jongbaek 1-dong, Rakrang-guyok, Pyongyang, Korea, North; Room 9, Unit A, 3rd Floor, Cheong Sun Tower, 116-118, Wing Lok Street, Sheung Wan, Hong Kong; Secondary sanctions risk: North Korea Sanctions Regulations sections 510.201 and 510.210; Company Number IMO 5980332 [DPRK4].

29. COMMERCIAL BANK AGROSOYUZ (Cyrillic: ) (a.k.a. AGROSOYUZ (Cyrillic: ); a.k.a. AGROSOYUZ LLC (Cyrillic: ; a.k.a. LLC COMMERCIAL BANK AGROSOYUZ (Cyrillic: )), Ulanskiy pereulok, number 13 building 1, Moscow 101000, Russia; SWIFT/BIC AGSZRU31; alt. SWIFT/BIC AGSZRU33; Secondary sanctions risk: North Korea Sanctions Regulations, sections 510.201 and 510.210 [DPRK4].

30. DAEDONG CREDIT BANK (a.k.a. DAE-DONG CREDIT BANK; a.k.a. DCB; a.k.a. TAEDONG CREDIT BANK), Suite 401, Potonggang Hotel, Ansan-Dong, Pyongchon District, Pyongyang, Korea, North; Ansan-dong, Botongang Hotel, Pongchon, Pyongyang, Korea, North; SWIFT/BIC DCBKKPPY; Secondary sanctions risk: North Korea Sanctions Regulations sections 510.201 and 510.210 [NPWMD].

31. DAEWON INDUSTRIES (a.k.a. DAEWON INDUSTRY COMPANY; a.k.a. TAEWO'N INDUSTRIES), Pyongyang, Korea, North; Secondary sanctions risk: North Korea Sanctions Regulations sections 510.201 and 510.210 [DPRK3].

32. DAI HONG DAN General Cargo Democratic People's Republic of Korea flag; Secondary sanctions risk: North Korea Sanctions Regulations sections 510.201 and 510.210; Vessel Registration Identification IMO 7944695 (vessel) [DPRK].

35. DANDONG DONGYUAN INDUSTRIAL CO., LTD. (a.k.a. DANDONG DONGYUAN INDUSTRIAL CO.; a.k.a. DANDONG DONGYUAN INDUSTRY CO., LTD.), No. 34-7, Zhenba Street, Zhenxing District, Dandong 118001, China; Rm 3002 No 99 3 1 Binjiang Middle Rd, Zhenxing District, Dandong, China; Secondary sanctions risk: North Korea Sanctions Regulations sections 510.201 and 510.210; D-U-N-S Number 542957624 [DPRK4].

36. DANDONG HONGDA TRADE CO. LTD., China; Room 301, No. 1 Building, Business & Tourist Section, Dandong, Liaoning, China; Secondary sanctions risk: North Korea Sanctions Regulations sections 510.201 and 510.210 [DPRK4].

37. DANDONG HONGXIANG INDUSTRIAL DEVELOPMENT CO LTD, Dandong, China; Secondary sanctions risk: North Korea Sanctions Regulations sections 510.201 and 510.210 [NPWMD].

38. DANDONG JINXIANG TRADE CO., LTD. (a.k.a. CHINA DANDONG KUMSANG TRADE COMPANY, LIMITED; a.k.a. DANDONG METAL COMPANY; a.k.a. JINXIANG TRADING COMPANY), Room 303, Unit 2, Building Number 3, Number 99 Binjiang Lu (Road), Zhenxing District, Dandong, China; Room 303-01, Number 99-3, Binjiang Zhong Lu (Road), Dandong, China; Number 5, Tenth Street, Zhenxing District, Dandong, Liaoning, China; 245-11, Number 1 Wanlian Road, Shenhe District, Shenyang, China; Room 1101, No B, Jiadi Building, Business and Tourist, China; Room 303, Unit 2, 3 Haolou, Building 99 Binjiang Middle Rd., Zhenxing, Dandong, Liaoning 118000, China; Secondary sanctions risk: North Korea Sanctions Regulations sections 510.201 and 510.210; Nationality of Registration China [DPRK4].

39. DANDONG KEHUA ECONOMY & TRADE CO., LTD. (a.k.a. DANDONG KEHUA ECONOMIC AND TRADE CO. LTD.), China; Room 102, 1/F, Antai Garden, Zhenxing District, Dandong, Liaoning 118000, China; Secondary sanctions risk: North Korea Sanctions Regulations sections 510.201 and 510.210 [DPRK4].

40. DANDONG RICH EARTH TRADING CO., LTD., Jiadi Square, Number 64, Binjiang Middle Road, Room 1001, Building B, Dandong City, Liaoning, China; Secondary sanctions risk: North Korea Sanctions Regulations sections 510.201 and 510.210 [NPWMD] (Linked To: KOREA KUMSAN TRADING CORPORATION).

42. DANDONG XIANGHE TRADING CO., LTD. (a.k.a. DANDONG XIANGHE TRADING CORPORATION; a.k.a. DANDONG XIANGHE TRADING LTD. CO; a.k.a. XIANGHE TRADE CO., LTD.), China; No. 603, 2F, Jiadi Square, Developing Zone, Dandong, Liaoning, China; Beida Rd., Pingxiang City, Chongzuo, Guangxi 532600, China; Room 703, No. 7 Building, Fangba, Yanjiang Development Zone, Dandong, China; Secondary sanctions risk: North Korea Sanctions Regulations sections 510.201 and 510.210 [DPRK4].

45. DAWN MARINE MANAGEMENT CO LTD, Changgyong 2-dong, Sosong-guyok, Pyongyang, Korea, North; Secondary sanctions risk: North Korea Sanctions Regulations sections 510.201 and 510.210; Nationality of Registration Korea, North; Company Number 5926921 [DPRK4].

46. DAWNLIGHT General Cargo Mongolia flag; Secondary sanctions risk: North Korea Sanctions Regulations sections 510.201 and 510.210; Vessel Registration Identification IMO 9110236 (vessel) [DPRK].

47. DCB FINANCE LIMITED, Akara Building, 24 de Castro Street, Wickhams Cay I, Road Town, Tortola, Virgin Islands, British; Dalian, China; Secondary sanctions risk: North Korea Sanctions Regulations sections 510.201 and 510.210 [NPWMD].

48. DOK CHON General Cargo Democratic People's Republic of Korea flag; Secondary sanctions risk: North Korea Sanctions Regulations sections 510.201 and 510.210; Vessel Registration Identification IMO 7411260 (vessel) [DPRK].

49. DONG FENG 6 5,515DWT Tanzania flag; Secondary sanctions risk: North Korea Sanctions Regulations sections 510.201 and 510.210; Vessel Registration Identification IMO 9008201 (vessel) [DPRK4] (Linked To: SHANGHAI DONGFENG SHPG CO LTD).

50. EKO DEVELOPMENT AND INVESTMENT COMPANY (a.k.a. EKO DEVELOPMENT & INVESTMENT FOOD COMPANY; a.k.a. EKO IMPORT AND EXPORT COMPANY), 35 St. Abd al-Aziz al-Sud, al-Manial, Cairo, Egypt; Secondary sanctions risk: North Korea Sanctions Regulations sections 510.201 and 510.210 [DPRK2].

51. EVER BRIGHT 88 Sierra Leone flag; Secondary sanctions risk: North Korea Sanctions Regulations sections 510.201 and 510.210; Vessel Registration Identification IMO 8914934 (vessel) [DPRK] (Linked To: OCEAN MARITIME MANAGEMENT COMPANY LIMITED).

52. EVER GLORY Democratic People's Republic of Korea flag; Secondary sanctions risk: North Korea Sanctions Regulations sections 510.201 and 510.210; Vessel Registration Identification IMO 8909915 (vessel) [DPRK4] (Linked To: KOREA MARINE & INDUSTRIAL TRDG).

53. EXTERNAL CONSTRUCTION BUREAU (a.k.a. EXTERNAL CONSTRUCTION GENERAL COMPANY; a.k.a. EXTERNAL CONSTRUCTION GUIDANCE BUREAU), Korea, North; Kuwait; Qatar; United Arab Emirates; Oman; Secondary sanctions risk: North Korea Sanctions Regulations sections 510.201 and 510.210 [DPRK3].

54. FIRST OIL JV CO LTD, Jongbaek 1-dong, Rakrang-guyok, Pyongyang, Korea, North; Secondary sanctions risk: North Korea Sanctions Regulations sections 510.201 and 510.210; Company Number IMO 5963351 [DPRK4].

55. FOREIGN TRADE BANK OF THE DEMOCRATIC PEOPLE'S REPUBLIC OF KOREA (a.k.a. KOREA TRADE BANK; a.k.a. MOOYOKBANK; a.k.a. NORTH KOREA'S FOREIGN TRADE BANK), FTB Building, Jungsong-dong, Central District, Pyongyang, Korea, North; SWIFT/BIC FTBDKPPY; Secondary sanctions risk: North Korea Sanctions Regulations sections 510.201 and 510.210 [NPWMD] [DPRK3].

56. GEFEST-M LLC, Office 401, Structure 1, Building 1, Chermyanskaya Street, Moscow 127081, Russia; Office Space 5, Room 18, Building 5/7 Rozhdestvenka Street, Moscow 107031, Russia; Secondary sanctions risk: North Korea Sanctions Regulations sections 510.201 and 510.210 [NPWMD] (Linked To: KOREA TANGUN TRADING CORPORATION).

57. GENERAL BUREAU OF ATOMIC ENERGY (a.k.a. GBAE; a.k.a. GENERAL DEPARTMENT OF ATOMIC ENERGY), Haeudong, Pyongchen District, Pyongyang, Korea, North; Secondary sanctions risk: North Korea Sanctions Regulations sections 510.201 and 510.210 [NPWMD].

58. GLOBAL INTERFACE COMPANY INC. (f.k.a. TRANS SCIENTIFIC CORP.), 9F-1, No. 22, Hsin Yi Rd., Sec. 2, Taipei, Taiwan; 1st Floor, No. 49, Lane 280, Kuang Fu S. Road, Taipei, Taiwan; Secondary sanctions risk: North Korea Sanctions Regulations sections 510.201 and 510.210; Business Registration Document # 12873346 (Taiwan) [NPWMD].

59. GOLD STAR 3 Cambodia flag; Secondary sanctions risk: North Korea Sanctions Regulations sections 510.201 and 510.210; Vessel Registration Identification IMO 8405402 (vessel) [DPRK] (Linked To: OCEAN MARITIME MANAGEMENT COMPANY LIMITED).

60. GOO RYONG Democratic People's Republic of Korea flag; Secondary sanctions risk: North Korea Sanctions Regulations sections 510.201 and 510.210; Vessel Registration Identification IMO 8201870 (vessel) [DPRK4] (Linked To: GOORYONG SHIPPING CO LTD).

61. GOORYONG SHIPPING CO LTD (f.k.a. GOORYONG SHIPPING BANGKOK), Changgyong 2-dong, Sosong-guyok, Pyongyang, Korea, North; Warranton Ville 458Soi 5Pattanakan Soi 44Suanluang, Bangkok 10250, Thailand; Secondary sanctions risk: North Korea Sanctions Regulations sections 510.201 and 510.210; Company Number IMO 5055293 [DPRK4].

62. GRAND KARO Cambodia flag; Secondary sanctions risk: North Korea Sanctions Regulations sections 510.201 and 510.210; Vessel Registration Identification IMO 8511823 (vessel) [DPRK] (Linked To: OCEAN MARITIME MANAGEMENT COMPANY LIMITED).

63. GREEN PINE ASSOCIATED CORPORATION (a.k.a. CHO′NGSONG UNITED TRADING COMPANY; a.k.a. CHONGSONG YONHAP; a.k.a. CH′O′NGSONG YO′NHAP; a.k.a. CHOSUN CHAWO'N KAEBAL T′UJA HOESA; a.k.a. JINDALLAE; a.k.a. KU′MHAERYONG COMPANY LTD; a.k.a. NATURAL RESOURCES DEVELOPMENT AND INVESTMENT CORPORATION; a.k.a. SAENGP'IL COMPANY), c/o Reconnaissance General Bureau Headquarters, Hyongjesan-Guyok, Pyongyang, Korea, North; Nungrado, Pyongyang, Korea, North; Secondary sanctions risk: North Korea Sanctions Regulations sections 510.201 and 510.210 [DPRK].

64. GUDZON SHIPPING CO LLC (a.k.a. LLC GUDZON SHIPPING CO; a.k.a. OOO GUDZON SHIPPING CO; a.k.a. SK GUDZON, OOO), ul Tigorovaya 20A, Vladivostok, Primorskiy kray 690091, Russia; Secondary sanctions risk: North Korea Sanctions Regulations, sections 510.201 and 510.210; Company Number IMO 5753988 [DPRK4].

65. HAEJIN SHIP MANAGEMENT COMPANY LIMITED, Tonghung-dong, Chung-guyok, Pyongyang, Korea, North; Tonghung-dong, Central District, Pyongyang, Korea, North; Email Address haejinsm@silibank.net.kp; Secondary sanctions risk: North Korea Sanctions Regulations sections 510.201 and 510.210; Identification Number IMO 5814866 [DPRK].

67. HANA ELECTRONICS JVC (a.k.a. HANA ELECTRONIC JV COMPANY; a.k.a. HANA ELECTRONICS), Pyongyang, Korea, North; Secondary sanctions risk: North Korea Sanctions Regulations sections 510.201 and 510.210 [DPRK4].

68. HAO FAN 2 11,658DWT; Secondary sanctions risk: North Korea Sanctions Regulations sections 510.201 and 510.210; Vessel Registration Identification IMO 8747604 (vessel) [DPRK4] (Linked To: SHEN ZHONG INTERNATIONAL SHPG).

69. HAO FAN 6 13,500DWT; Secondary sanctions risk: North Korea Sanctions Regulations sections 510.201 and 510.210; Vessel Registration Identification IMO 8628597 (vessel) [DPRK4] (Linked To: SHEN ZHONG INTERNATIONAL SHPG).

70. HAP JANG GANG 6 Democratic People's Republic of Korea flag; Secondary sanctions risk: North Korea Sanctions Regulations sections 510.201 and 510.210; Vessel Registration Identification IMO 9066540 (vessel) [DPRK4] (Linked To: HAPJANGGANG SHIPPING CORP).

71. HAPJANGGANG SHIPPING CORP, Kumsong 3-dong, Mangyongdae-guyok, Pyongyang, Korea, North; Secondary sanctions risk: North Korea Sanctions Regulations sections 510.201 and 510.210; Company Number IMO 5787684 [DPRK4].

72. HESONG TRADING CORPORATION, Pyongyang, Korea, North; Secondary sanctions risk: North Korea Sanctions Regulations sections 510.201 and 510.210 [NPWMD].

73. HOE RYONG Democratic People's Republic of Korea flag; Secondary sanctions risk: North Korea Sanctions Regulations sections 510.201 and 510.210; Vessel Registration Identification IMO 9041552 (vessel) [DPRK3] (Linked To: HOERYONG SHIPPING CO LTD).

74. HOERYONG SHIPPING CO LTD, 108, Pongnam-dong, Pyongchon-guyok, Pyongyang, Korea, North; Secondary sanctions risk: North Korea Sanctions Regulations sections 510.201 and 510.210; Vessel Registration Identification IMO 5817786 [DPRK3].

75. HONG KONG ELECTRONICS (a.k.a. HONG KONG ELECTRONICS KISH CO), Sanaee St., Kish Island, Iran; Secondary sanctions risk: North Korea Sanctions Regulations sections 510.201 and 510.210 [NPWMD].

77. HUA FU 10,030DWT Panama flag; Secondary sanctions risk: North Korea Sanctions Regulations sections 510.201 and 510.210; Vessel Registration Identification IMO 9020003 (vessel) [DPRK4] (Linked To: CHANG AN SHIPPING & TECHNOLOGY).

79. HWA SONG Democratic People's Republic of Korea flag; Secondary sanctions risk: North Korea Sanctions Regulations sections 510.201 and 510.210; Vessel Registration Identification IMO 8217685 (vessel) [DPRK4] (Linked To: HWASONG SHIPPING CO LTD).

80. HWANG GUM SAN 2 General Cargo Democratic People's Republic of Korea flag; Secondary sanctions risk: North Korea Sanctions Regulations sections 510.201 and 510.210; Vessel Registration Identification IMO 8405270 (vessel) [DPRK].

81. HWASONG SHIPPING CO LTD, Changgyong dong, Sosong-guyok, Pyongyang, Korea, North; Secondary sanctions risk: North Korea Sanctions Regulations sections 510.201 and 510.210; Company Number IMO 543400 [DPRK4].

82. HYOK SIN 2 Bulk Carrier Democratic People's Republic of Korea flag; Secondary sanctions risk: North Korea Sanctions Regulations sections 510.201 and 510.210; Vessel Registration Identification IMO 8018900 (vessel) [DPRK].

83. ILSIM INTERNATIONAL BANK, Pyongyang, Korea, North; SWIFT/BIC ILSIKPPY; Secondary sanctions risk: North Korea Sanctions Regulations sections 510.201 and 510.210 [DPRK3].

84. INDEPENDENT PETROLEUM COMPANY (a.k.a. AKTSIONERNOE OBSHCHESTVO 'NEZAVISIMAYA NEFTEGAZOVAYA KOMPANIYA'; a.k.a. “NNK, AO”), 1 Arbatskaya Square, Moscow 119019, Russia; Secondary sanctions risk: North Korea Sanctions Regulations sections 510.201 and 510.210 [DPRK3].

85. INTERNATIONAL INDUSTRIAL DEVELOPMENT BANK, Jongpyong-Dong, Pyong Chon District, Pyongyang, Korea, North; Secondary sanctions risk: North Korea Sanctions Regulations sections 510.201 and 510.210 [DPRK4].

86. JANG GYONG Democratic People's Republic of Korea flag; Secondary sanctions risk: North Korea Sanctions Regulations sections 510.201 and 510.210; Vessel Registration Identification IMO 8203933 (vessel) [DPRK4] (Linked To: DAWN MARINE MANAGEMENT CO LTD).

87. JANG JA SAN CHONG NYON HO Bulk Carrier Democratic People's Republic of Korea flag; Secondary sanctions risk: North Korea Sanctions Regulations sections 510.201 and 510.210; Vessel Registration Identification IMO 8133530 (vessel) [DPRK].

88. JH 86 Cambodia flag; Secondary sanctions risk: North Korea Sanctions Regulations sections 510.201 and 510.210; Vessel Registration Identification IMO 8602531 (vessel) [DPRK] (Linked To: OCEAN MARITIME MANAGEMENT COMPANY LIMITED).

89. JI SONG 6 Democratic People's Republic of Korea flag; Secondary sanctions risk: North Korea Sanctions Regulations sections 510.201 and 510.210; Vessel Registration Identification IMO 8898740 (vessel) [DPRK4] (Linked To: PHYONGCHON SHIPPING & MARINE).

90. JI SONG 8 Democratic People's Republic of Korea flag; Secondary sanctions risk: North Korea Sanctions Regulations sections 510.201 and 510.210; Vessel Registration Identification IMO 8503228 (vessel) [DPRK4] (Linked To: PHYONGCHON SHIPPING & MARINE).

91. JIN TAI Sierra Leone flag; Secondary sanctions risk: North Korea Sanctions Regulations sections 510.201 and 510.210; Vessel Registration Identification IMO 9163154 (vessel) [DPRK] (Linked To: OCEAN MARITIME MANAGEMENT COMPANY LIMITED).

92. JIN TENG Sierra Leone flag; Secondary sanctions risk: North Korea Sanctions Regulations sections 510.201 and 510.210; Vessel Registration Identification IMO 9163166 (vessel) [DPRK] (Linked To: OCEAN MARITIME MANAGEMENT COMPANY LIMITED).

94. JINMYONG JOINT BANK, Korea, North; Dalian, China; Secondary sanctions risk: North Korea Sanctions Regulations sections 510.201 and 510.210 [DPRK4].

95. JINSONG JOINT BANK, Korea, North; Secondary sanctions risk: North Korea Sanctions Regulations sections 510.201 and 510.210 [DPRK4].

96. JON JIN 2 Bulk Carrier Democratic People's Republic of Korea flag; Secondary sanctions risk: North Korea Sanctions Regulations sections 510.201 and 510.210; Vessel Registration Identification IMO 8018912 (vessel) [DPRK].

97. KANG SONG 1 Democratic People's Republic of Korea flag; Secondary sanctions risk: North Korea Sanctions Regulations sections 510.201 and 510.210; Vessel Registration Identification IMO 6908096 (vessel) [DPRK4] (Linked To: KOREA KUMBYOL TRADING COMPANY).

98. KANGBONG TRADING CORPORATION, Korea, North; Secondary sanctions risk: North Korea Sanctions Regulations sections 510.201 and 510.210 [DPRK3].

99. KINGLY WON INTERNATIONAL CO., LTD., Marshall Islands; Trust Company Complex, Ajeltake Road, Ajeltake Island, Majuro MH 96960, Marshall Islands; Taiwan; 8th Floor, Number 466, Section 2, Neihu Road, Taipei, Taiwan; Secondary sanctions risk: North Korea Sanctions Regulations sections 510.201 and 510.210; Commercial Registry Number 90132 (Marshall Islands) [DPRK3] (Linked To: TSANG, Yung Yuan).

100. KOHAS AG, Route des Arsenaux 15, Fribourg, FR 1700, Switzerland; Secondary sanctions risk: North Korea Sanctions Regulations sections 510.201 and 510.210; C.R. No. CH-217.0.135.719-4 (Switzerland) [NPWMD].

101. KOREA ACHIM SHIPPING CO, Sochang-dong, Chung-guyok, Pyongyang, Korea, North; Secondary sanctions risk: North Korea Sanctions Regulations sections 510.201 and 510.210; Company Number IMO 5936312 [DPRK4].

102. KOREA ANSAN SHIPPING COMPANY (a.k.a. KOREA ANSAN SHPG CO), Pyongchon 1-dong, Pyongchon-guyok, Pyongyang, Korea, North; Secondary sanctions risk: North Korea Sanctions Regulations sections 510.201 and 510.210; Company Number IMO 5676084 [DPRK4].

103. KOREA COMPLEX EQUIPMENT IMPORT CORPORATION, Rakwon-dong, Pothonggang District, Pyongyang, Korea, North; Secondary sanctions risk: North Korea Sanctions Regulations sections 510.201 and 510.210 [NPWMD].

104. KOREA COMPUTER CENTER (a.k.a. CHOSON COMPUTER CENTER; a.k.a. CHUNG SUN COMPUTER CENTER; a.k.a. KOREA COMPUTER COMPANY), Pyongyang, Korea, North; Germany; China; Syria; India; United Arab Emirates; Secondary sanctions risk: North Korea Sanctions Regulations sections 510.201 and 510.210 [DPRK3].

105. KOREA DAEBONG SHIPPING CO, Ansan 1-dong, Pyongchon-guyok, Pyongyang, Korea, North; Secondary sanctions risk: North Korea Sanctions Regulations sections 510.201 and 510.210; Nationality of Registration Korea, North; Company Number 5145243 [DPRK4].

106. KOREA DAESONG BANK (a.k.a. CHOSON TAESONG UNHAENG; a.k.a. TAESONG BANK), Segori-dong, Gyongheung St., Potonggang District, Pyongyang, Korea, North; SWIFT/BIC KDBKKPPY; Secondary sanctions risk: North Korea Sanctions Regulations sections 510.201 and 510.210; PHONE 850 2 381 8221; PHONE 850 2 18111 ext. 8221; FAX 850 2 381 4576; TELEX 360230 and 37041 KDP KP; TGMS daesongbank; EMAIL kdb@co.chesin.com [DPRK].

107. KOREA DAESONG GENERAL TRADING CORPORATION (a.k.a. DAESONG TRADING; a.k.a. DAESONG TRADING COMPANY; a.k.a. KOREA DAESONG TRADING COMPANY; a.k.a. KOREA DAESONG TRADING CORPORATION), Pulgan Gori Dong 1, Potonggang District, Pyongyang City, Korea, North; Secondary sanctions risk: North Korea Sanctions Regulations sections 510.201 and 510.210; PHONE 850 2 18111 8204/8208; PHONE 850 2 381 8208/4188; FAX 850 2 381 4431/4432; EMAIL daesong@co.chesin.com [DPRK].

108. KOREA EXPO JOINT VENTURE (a.k.a. CHOSUN EXPO; a.k.a. CHOSUN EXPO JOINT VENTURE; a.k.a. KOREA EXPO JOINT VENTURE CORPORATION), Pyongyang, Korea, North; Secondary sanctions risk: North Korea Sanctions Regulations, sections 510.201 and 510.210 [DPRK3].

109. KOREA FOREIGN TECHNICAL TRADE CENTER, Korea, North; Secondary sanctions risk: North Korea Sanctions Regulations sections 510.201 and 510.210 [DPRK3].

110. KOREA GENERAL CORPORATION FOR EXTERNAL CONSTRUCTION, Korea, North; Secondary sanctions risk: North Korea Sanctions Regulations sections 510.201 and 510.210 [DPRK3].

111. KOREA HAEGUMGANG TRADING CORPORATION (a.k.a. HAEGU′MGANG TRADING COMPANY; a.k.a. KOREA RIMYONGSU TRADING CORPORATION; a.k.a. NAEGU′NGANG TRADING COMPANY), Korea, North; Secondary sanctions risk: North Korea Sanctions Regulations sections 510.201 and 510.210 [DPRK2].

112. KOREA HEUNGJIN TRADING COMPANY (a.k.a. HUNJIN TRADING CO.), Pyongyang, Korea, North; Secondary sanctions risk: North Korea Sanctions Regulations sections 510.201 and 510.210 [NPWMD].

113. KOREA HYOKSIN TRADING CORPORATION (a.k.a. KOREA HYOKSIN EXPORT AND IMPORT CORPORATION), Rakwon-dong, Pothonggang District, Pyongyang, Korea, North; Secondary sanctions risk: North Korea Sanctions Regulations sections 510.201 and 510.210 [NPWMD].

114. KOREA INTERNATIONAL CHEMICAL JOINT VENTURE COMPANY (a.k.a. CHOSON INTERNATIONAL CHEMICALS JOINT OPERATION COMPANY; a.k.a. CHOSUN INTERNATIONAL CHEMICALS JOINT OPERATION COMPANY; a.k.a. INTERNATIONAL CHEMICAL JOINT VENTURE CORPORATION), Hamhung, South Hamgyong Province, Korea, North; Man gyongdae-kuyok, Pyongyang, Korea, North; Mangyungdae-gu, Pyongyang, Korea, North; Secondary sanctions risk: North Korea Sanctions Regulations sections 510.201 and 510.210 [NPWMD].

115. KOREA KUMBYOL TRADING COMPANY (a.k.a. KUMBYOL TRADING; a.k.a. KUMBYOL TRADING COMPANY OF NORTH KOREAN WORKERS′ PARTY), Pyongyang, Korea, North; Secondary sanctions risk: North Korea Sanctions Regulations sections 510.201 and 510.210 [DPRK4].

116. KOREA KUMSAN TRADING CORPORATION, Pyongyang, Korea, North; Secondary sanctions risk: North Korea Sanctions Regulations sections 510.201 and 510.210 [NPWMD] (Linked To: GENERAL BUREAU OF ATOMIC ENERGY).

117. KOREA KUMUNSAN SHIPPING CO, Pongnam-dong, Pyongchon-guyok, Pyongyang, Korea, North; Secondary sanctions risk: North Korea Sanctions Regulations sections 510.201 and 510.210; Company Number IMO 5110478 [DPRK4].

118. KOREA KWANGSON BANKING CORP (a.k.a. KKBC), Jungson-dong, Sungri Street, Central District, Pyongyang, Korea, North; Secondary sanctions risk: North Korea Sanctions Regulations sections 510.201 and 510.210 [NPWMD].

119. KOREA KWANGSONG TRADING CORPORATION, Rakwon-dong, Pothonggang District, Pyongyang, Korea, North; Secondary sanctions risk: North Korea Sanctions Regulations sections 510.201 and 510.210 [NPWMD].

120. KOREA MARINE & INDUSTRIAL TRDG (a.k.a. KOREA MARINE AND INDUSTRIAL TRDG), Changgyong 2-dong, Sosong-guyok, Pyongyang, Korea, North; Secondary sanctions risk: North Korea Sanctions Regulations sections 510.201 and 510.210; Company Number IMO 5928635 [DPRK4].

121. KOREA MINING DEVELOPMENT TRADING CORPORATION (a.k.a. CHANGGWANG SINYONG CORPORATION; a.k.a. DPRKN MINING DEVELOPMENT TRADING COOPERATION; a.k.a. EXTERNAL TECHNOLOGY GENERAL CORPORATION; a.k.a. KOREA KUMRYONG TRADING COMPANY; a.k.a. KOREAN MINING AND INDUSTRIAL DEVELOPMENT CORPORATION; a.k.a. NORTH KOREAN MINING DEVELOPMENT TRADING CORPORATION; a.k.a. “KOMID”), Central District, Pyongyang, Korea, North; Beijing, China; Moscow, Russia; Tehran, Iran; Damascus, Syria; Secondary sanctions risk: North Korea Sanctions Regulations sections 510.201 and 510.210 [NPWMD] [DPRK2].

122. KOREA MYONGDOK SHIPPING CO, Chilgol 2-dong, Mangyongdae-guyok, Pyongyang, Korea, North; Secondary sanctions risk: North Korea Sanctions Regulations sections 510.201 and 510.210; Company Number IMO 5985863 [DPRK4].

123. KOREA NATIONAL INSURANCE CORPORATION (a.k.a. KOREA FOREIGN INSURANCE COMPANY; a.k.a. KOREA NATIONAL INSURANCE COMPANY), Central District, Pyongyang, Korea, North; Secondary sanctions risk: North Korea Sanctions Regulations sections 510.201 and 510.210 [DPRK3].

124. KOREA OCEAN SHIPPING AGENCY, Moranbong District, Pyongyang, Korea, North; Namp′o Branch, Namp′o, South P′yo′ngan Province, Korea, North; Hungnam Branch, Hungnam, South Hamgyong Province, Korea, North; Chongjin Branch, Songphyong District, Chongjin, North Hamgyong Province, Korea, North; Haeju Branch, Haeju, South Hwanghae Province, Korea, North; Songnim Branch, Songnim, North Hwanghae Province, Korea, North; Wonsan Branch, Wonsan, Kangwon Province, Korea, North; Rason Branch, Rason, North Hamgyong Province, Korea, North; Secondary sanctions risk: North Korea Sanctions Regulations sections 510.201 and 510.210 [DPRK3].

125. KOREA OIL EXPLORATION CORPORATION (a.k.a. CHOSUN OIL EXPLORATION COMPANY; a.k.a. KOREA OIL EXPLORATION COMPANY; a.k.a. “KOEC”), Ulam Dong, Taedonggang District, Pyongyang, Korea, North; Secondary sanctions risk: North Korea Sanctions Regulations sections 510.201 and 510.210 [DPRK3].

126. KOREA PUGANG TRADING CORPORATION, Rakwon-dong, Pothonggang District, Pyongyang, Korea, North; Secondary sanctions risk: North Korea Sanctions Regulations sections 510.201 and 510.210 [NPWMD].

127. KOREA RUNGRADO GENERAL TRADING CORPORATION (a.k.a. RUNGRADO TRADE COMPANY), Korea, North; Secondary sanctions risk: North Korea Sanctions Regulations sections 510.201 and 510.210 [DPRK3].

128. KOREA RUNGRADO RYONGAK TRADING CO, Pulgunkori 2-dong, Potonggang-guyok, Pyongyang, Korea, North; Secondary sanctions risk: North Korea Sanctions Regulations sections 510.201 and 510.210; Nationality of Registration Korea, North; Company Number 5787653 [DPRK4].

129. KOREA RUNGRADO SHIPPING CO, Pulgunkori 1-dong, Potonggang-guyok, Pyongyang, Korea, North; Secondary sanctions risk: North Korea Sanctions Regulations sections 510.201 and 510.210; Nationality of Registration Korea, North; Company Number 1414592 [DPRK4].

130. KOREA RYONBONG GENERAL CORPORATION (a.k.a. KOREA YONBONG GENERAL CORPORATION; f.k.a. LYONGAKSAN GENERAL TRADING CORPORATION), Pot′onggang District, Pyongyang, Korea, North; Rakwon-dong, Pothonggang District, Pyongyang, Korea, North; Secondary sanctions risk: North Korea Sanctions Regulations sections 510.201 and 510.210 [NPWMD].

131. KOREA RYONGWANG TRADING CORPORATION (a.k.a. KOREA RYENGWANG TRADING CORPORATION), Rakwon-dong, Pothonggang District, Pyongyang, Korea, North; Secondary sanctions risk: North Korea Sanctions Regulations sections 510.201 and 510.210 [NPWMD].

132. KOREA RYONHA MACHINERY JOINT VENTURE CORPORATION (a.k.a. CHOSUN YUNHA MACHINERY JOINT OPERATION COMPANY; a.k.a. KOREA RYENHA MACHINERY J/V CORPORATION; a.k.a. RYONHA MACHINERY JOINT VENTURE CORPORATION), Mangungdae-gu, Pyongyang, Korea, North; Mangyongdae District, Pyongyang, Korea, North; Central District, Pyongyang, Korea, North; Secondary sanctions risk: North Korea Sanctions Regulations sections 510.201 and 510.210 [NPWMD].

133. KOREA SAMILPO SHIPPING CO, Tonghung-dong, Chung-guyok, Pyongyang, Korea, North; Secondary sanctions risk: North Korea Sanctions Regulations sections 510.201 and 510.210; Vessel Registration Identification IMO 1701459 [DPRK3].

134. KOREA SAMJONG SHIPPING CO, Tonghung-dong, Chung-guyok, Pyongyang, Korea, North; Secondary sanctions risk: North Korea Sanctions Regulations sections 510.201 and 510.210; Company Number IMO 5954061 [DPRK4].

135. KOREA SAMMA SHPG CO (a.k.a. KOREA SAMMA SHIPPING CO), Rakrang 3-dong, Rakrang-guyok, Pyongyang, Korea, North; Secondary sanctions risk: North Korea Sanctions Regulations sections 510.201 and 510.210; Company Number IMO 5145892 [DPRK4].

136. KOREA SOUTH-SOUTH COOPERATION CORPORATION (a.k.a. NAM NAM GENERAL CORPORATION; a.k.a. NAM-NAM (SOUTH-SOUTH) COOPERATIVE GENERAL COMPANY), Central District, Pyongyang, Korea, North; China; Russia; Poland; Secondary sanctions risk: North Korea Sanctions Regulations sections 510.201 and 510.210 [DPRK3].

137. KOREA TAESONG TRADING COMPANY, Pyongyang, Korea, North; Secondary sanctions risk: North Korea Sanctions Regulations sections 510.201 and 510.210 [NPWMD].

138. KOREA TANGUN TRADING CORPORATION (a.k.a. KOREA KURYONGGANG TRADING CORPORATION; a.k.a. RYUNG SENG TRADING CORPORATION; a.k.a. RYUNGSENG TRADING CORPORATION; a.k.a. RYUNGSONG TRADING CORPORATION), Pyongyang, Korea, North; Secondary sanctions risk: North Korea Sanctions Regulations sections 510.201 and 510.210 [NPWMD] [DPRK2].

139. KOREA UNGUM CORPORATION (a.k.a. KOREA UNGUM COMPANY), Pyongyang, Korea, North; Secondary sanctions risk: North Korea Sanctions Regulations, sections 510.201 and 510.210 [DPRK3].

140. KOREA UNITED DEVELOPMENT BANK, Pyongyang, Korea, North; SWIFT/BIC KUDBKPPY; Secondary sanctions risk: North Korea Sanctions Regulations sections 510.201 and 510.210 [DPRK3].

141. KOREA UNPHA SHIPPING & TRADING (a.k.a. KOREA UNPHA SHIPPING AND TRADING), Puksong-dong, Pyongchon-guyok, Pyongyang, Korea, North; Secondary sanctions risk: North Korea Sanctions Regulations sections 510.201 and 510.210; Company Number IMO 6005935 [DPRK4].

142. KOREA YUJONG SHIPPING CO LTD, Puksong 2-dong, Pyongchon-guyok, Pyongyang, Korea, North; Secondary sanctions risk: North Korea Sanctions Regulations sections 510.201 and 510.210; Company Number IMO 5434358 [DPRK4].

143. KOREA ZINC INDUSTRIAL GROUP (a.k.a. KOREA ZINC INDUSTRY GENERAL CORPORATION; a.k.a. KOREA ZINC INDUSTRY GROUP; a.k.a. NORTH KOREAN ZINC INDUSTRY GROUP), Korea, North; Dalian, China; Secondary sanctions risk: North Korea Sanctions Regulations sections 510.201 and 510.210 [DPRK3].

144. KOREA ZUZAGBONG MARITIME LTD, Kinmaul-dong, Moranbong-guyok, Pyongyang, Korea, North; Secondary sanctions risk: North Korea Sanctions Regulations sections 510.201 and 510.210; Vessel Registration Identification IMO 1991835 [DPRK3].

145. KOREAN BUYON SHIPPING CO. LTD. (a.k.a. KOREA BUYON SHIPPING CO; a.k.a. KOREAN BUYON SHIPPING COMPANY LIMITED), Wonsan, Kangwon-do, Korea, North; Secondary sanctions risk: North Korea Sanctions Regulations sections 510.201 and 510.210; Vessel Registration Identification IMO 5057119 [DPRK3].

146. KOREAN COMMITTEE FOR SPACE TECHNOLOGY (a.k.a. COMMITTEE FOR SPACE TECHNOLOGY; a.k.a. DEPARTMENT OF SPACE TECHNOLOGY OF NORTH KOREA; a.k.a. DPRK COMMITTEE FOR SPACE TECHNOLOGY; a.k.a. KCST), Pyongyang, Korea, North; Secondary sanctions risk: North Korea Sanctions Regulations sections 510.201 and 510.210 [NPWMD].

147. KOREAN PEOPLE'S ARMY, Korea, North; Secondary sanctions risk: North Korea Sanctions Regulations sections 510.201 and 510.210 [DPRK3].

148. KOREAN POLISH SHPG CO LTD, Kinmaul-dong, Moranbong-guyok, Pyongyang, Korea, North; Secondary sanctions risk: North Korea Sanctions Regulations sections 510.201 and 510.210; Vessel Registration Identification IMO 1267131 [DPRK3].

149. KOREAN WORKERS PARTY, PROPAGANDA AND AGITATION DEPARTMENT (a.k.a. PROPAGANDA AND AGITATION DEPARTMENT; a.k.a. PROPAGANDA AND AGITATION DEPARTMENT, WORKERS PARTY OF KOREA), Pyongyang, Korea, North; Secondary sanctions risk: North Korea Sanctions Regulations sections 510.201 and 510.210 [DPRK3].

150. KORYO BANK, Koryo Bank Building, Pulgun Street, Pyongyang, Korea, North; SWIFT/BIC KORBKPPY; Secondary sanctions risk: North Korea Sanctions Regulations sections 510.201 and 510.210; all offices worldwide [DPRK3].

151. KORYO COMMERCIAL BANK LTD., Pyongyang, Korea, North; Beijing, China; Shenyang, China; SWIFT/BIC KCBKKPP1; Secondary sanctions risk: North Korea Sanctions Regulations sections 510.201 and 510.210 [DPRK4].

152. KORYO CREDIT DEVELOPMENT BANK (a.k.a. DAESONG CREDIT DEVELOPMENT BANK; a.k.a. KORYO GLOBAL CREDIT BANK; a.k.a. KORYO GLOBAL TRUST BANK), Yanggakdo International Hotel, RYUS, Pyongyang, Korea, North; SWIFT/BIC KGCBKPPY; Secondary sanctions risk: North Korea Sanctions Regulations sections 510.201 and 510.210; all offices worldwide [DPRK3].

153. KOTI CORP, Panama City, Panama; Secondary sanctions risk: North Korea Sanctions Regulations sections 510.201 and 510.210; Company Number IMO 5982254 [DPRK4].

154. KOTI Panama flag; Secondary sanctions risk: North Korea Sanctions Regulations sections 510.201 and 510.210; Vessel Registration Identification IMO 9417115 (vessel) [DPRK4] (Linked To: KOTI CORP).

155. KU BONG RYONG Democratic People's Republic of Korea flag; Secondary sanctions risk: North Korea Sanctions Regulations sections 510.201 and 510.210; Vessel Registration Identification IMO 8983404 (vessel) [DPRK4] (Linked To: KOREA KUMBYOL TRADING COMPANY).

156. KUM GANG 3 Democratic People's Republic of Korea flag; Secondary sanctions risk: North Korea Sanctions Regulations sections 510.201 and 510.210; Vessel Registration Identification IMO 8966535 (vessel) [DPRK4] (Linked To: KOREA UNPHA SHIPPING & TRADING).

157. KUM SONG 3 Democratic People's Republic of Korea flag; Secondary sanctions risk: North Korea Sanctions Regulations sections 510.201 and 510.210; Vessel Registration Identification IMO 8661850 (vessel) [DPRK4] (Linked To: DAWN MARINE MANAGEMENT CO LTD).

158. KUM SONG 5 Democratic People's Republic of Korea flag; Secondary sanctions risk: North Korea Sanctions Regulations sections 510.201 and 510.210; Vessel Registration Identification IMO 8661719 (vessel) [DPRK4] (Linked To: DAWN MARINE MANAGEMENT CO LTD).

159. KUM SONG 7 Democratic People's Republic of Korea flag; Secondary sanctions risk: North Korea Sanctions Regulations sections 510.201 and 510.210; Vessel Registration Identification IMO 8739396 (vessel) [DPRK4] (Linked To: DAWN MARINE MANAGEMENT CO LTD).

160. KUM UN SAN 3 Democratic People's Republic of Korea flag; Secondary sanctions risk: North Korea Sanctions Regulations sections 510.201 and 510.210; Vessel Registration Identification IMO 8705539 (vessel) [DPRK4] (Linked To: DAWN MARINE MANAGEMENT CO LTD).

161. KUM UN SAN Democratic People's Republic of Korea flag; Secondary sanctions risk: North Korea Sanctions Regulations sections 510.201 and 510.210; Vessel Registration Identification IMO 8720436 (vessel) [DPRK4] (Linked To: KOREA KUMUNSAN SHIPPING CO).

162. KUMGANG BANK, Kumgang Bank Building, Jungsong-don, Pyongyang, Korea, North; SWIFT/BIC KMBKKPPY; Secondary sanctions risk: North Korea Sanctions Regulations sections 510.201 and 510.210; all offices worldwide [DPRK3].

163. LEADER (HONG KONG) INTERNATIONAL TRADING LIMITED (a.k.a. LEADER INTERNATIONAL TRADING LIMITED), Room 1610 Nan Fung Tower, 173 Des Voeux Road, Hong Kong; Secondary sanctions risk: North Korea Sanctions Regulations sections 510.201 and 510.210 [NPWMD].

165. MANSUDAE OVERSEAS PROJECT GROUP OF COMPANIES (a.k.a. MANSUDAE ART STUDIO), Pyongyang, Korea, North; Secondary sanctions risk: North Korea Sanctions Regulations sections 510.201 and 510.210 [DPRK3].

166. MANSUDAE OVERSEAS PROJECTS ARCHITECTURAL AND TECHNICAL SERVICES (PTY) LIMITED, Namibia; Secondary sanctions risk: North Korea Sanctions Regulations sections 510.201 and 510.210; Registration ID 2001/044 (Namibia) [DPRK3] (Linked To: MANSUDAE OVERSEAS PROJECT GROUP OF COMPANIES).

167. MARITIME ADMINISTRATION OF THE DEMOCRATIC PEOPLE'S REPUBLIC OF KOREA (a.k.a. MARITIME ADMINISTRATION BUREAU), Pyongyang, Korea, North; Secondary sanctions risk: North Korea Sanctions Regulations sections 510.201 and 510.210 [DPRK3].

168. MI RIM 2 Democratic People's Republic of Korea flag; Secondary sanctions risk: North Korea Sanctions Regulations sections 510.201 and 510.210; Vessel Registration Identification IMO 9361407 (vessel) [DPRK3] (Linked To: MIRIM SHIPPING CO LTD).

169. MI RIM Democratic People's Republic of Korea flag; Secondary sanctions risk: North Korea Sanctions Regulations sections 510.201 and 510.210; Vessel Registration Identification IMO 8713471 (vessel) [DPRK3] (Linked To: MIRIM SHIPPING CO LTD).

170. MILITARY SECURITY COMMAND (a.k.a. KOREAN PEOPLE'S ARMY SECURITY BUREAU; a.k.a. MILITARY SECURITY BUREAU), Korea, North; Secondary sanctions risk: North Korea Sanctions Regulations sections 510.201 and 510.210 [DPRK3].

171. MINGZHENG INTERNATIONAL TRADING LIMITED, Flat/RM A30 9/F, Silvercorp International Tower, 707-713 Nathan Road, Kowloon, Mong Kok, Hong Kong; 224-4 Shifa Da Lu, RM 1305, Heping District, Shenyang City, Liaoning Province, China; Secondary sanctions risk: North Korea Sanctions Regulations sections 510.201 and 510.210 [NPWMD] (Linked To: FOREIGN TRADE BANK OF THE DEMOCRATIC PEOPLE'S REPUBLIC OF KOREA; Linked To: SUN, Wei).

172. MINISTRY OF ATOMIC ENERGY INDUSTRY, Haeun 2-Dong, Pyongchon District, Pyongyang, Korea, North; Secondary sanctions risk: North Korea Sanctions Regulations sections 510.201 and 510.210 [NPWMD].

173. MINISTRY OF CRUDE OIL INDUSTRY (a.k.a. CRUDE OIL INDUSTRY MINISTRY; a.k.a. GENERAL BUREAU OF PETROLEUM INDUSTRY; a.k.a. MINISTRY OF CRUDE OIL), Pyongyang, Korea, North; Secondary sanctions risk: North Korea Sanctions Regulations sections 510.201 and 510.210 [DPRK3].

174. MINISTRY OF LABOR, Korea, North; Secondary sanctions risk: North Korea Sanctions Regulations sections 510.201 and 510.210 [DPRK3].

175. MINISTRY OF LAND AND MARITIME TRANSPORTATION OF THE DEMOCRATIC PEOPLE'S REPUBLIC OF KOREA (a.k.a. MINISTRY OF LAND AND MARINE TRANSPORT), Korea, North; Secondary sanctions risk: North Korea Sanctions Regulations sections 510.201 and 510.210 [DPRK3].

176. MINISTRY OF PEOPLE'S ARMED FORCES, Korea, North; Secondary sanctions risk: North Korea Sanctions Regulations sections 510.201 and 510.210 [DPRK3].

177. MINISTRY OF PEOPLE'S SECURITY (a.k.a. MINISTRY OF PUBLIC SECURITY; a.k.a. “MPS”), Korea, North; Secondary sanctions risk: North Korea Sanctions Regulations sections 510.201 and 510.210 [DPRK3].

178. MINISTRY OF PEOPLE'S SECURITY CORRECTIONAL BUREAU (a.k.a. MINISTRY OF PEOPLE'S SECURITY CORRECTIONAL MANAGEMENT BUREAU; a.k.a. MINISTRY OF PEOPLE'S SECURITY PRISON BUREAU), Korea, North; Secondary sanctions risk: North Korea Sanctions Regulations sections 510.201 and 510.210 [DPRK3].

179. MINISTRY OF STATE SECURITY (a.k.a. STATE SECURITY DEPARTMENT), Korea, North; Secondary sanctions risk: North Korea Sanctions Regulations sections 510.201 and 510.210 [DPRK3].

180. MINISTRY OF STATE SECURITY PRISONS BUREAU (a.k.a. MINISTRY OF STATE SECURITY FARM BUREAU; a.k.a. MINISTRY OF STATE SECURITY FARM GUIDANCE BUREAU; a.k.a. MINISTRY OF STATE SECURITY FARMING BUREAU; a.k.a. STATE SECURITY DEPARTMENT PRISONS BUREAU), Korea, North; Secondary sanctions risk: North Korea Sanctions Regulations sections 510.201 and 510.210 [DPRK3].

181. MIRIM SHIPPING CO LTD, Tonghung-dong, Chung-guyok, Pyongyang, Korea, North; Secondary sanctions risk: North Korea Sanctions Regulations sections 510.201 and 510.210; Vessel Registration Identification IMO 5647684 [DPRK3].

182. MU DU BONG General Cargo Democratic People's Republic of Korea flag; Secondary sanctions risk: North Korea Sanctions Regulations sections 510.201 and 510.210; Vessel Registration Identification IMO 8328197 (vessel) [DPRK].

183. MUNITIONS INDUSTRY DEPARTMENT (a.k.a. MILITARY SUPPLIES INDUSTRY DEPARTMENT), Pyongyang, Korea, North; Secondary sanctions risk: North Korea Sanctions Regulations sections 510.201 and 510.210 [NPWMD].

184. MYOHYANG SHIPPING CO, Kumsong 3-dong, Mangyongdae-guyok, Pyongyang, Korea, North; Secondary sanctions risk: North Korea Sanctions Regulations sections 510.201 and 510.210; Company Number IMO 5988369 [DPRK4].

185. NAM SAN 8 Democratic People's Republic of Korea flag; Secondary sanctions risk: North Korea Sanctions Regulations sections 510.201 and 510.210; Vessel Registration Identification IMO 8122347 (vessel) [DPRK4] (Linked To: HAPJANGGANG SHIPPING CORP).

186. NAMCHONGANG TRADING CORPORATION (a.k.a. KOREA NAMHUNG TRADING CORPORATION; a.k.a. KOREA TAERYONGGANG TRADING CORPORATION; a.k.a. NAM CHON GANG CORPORATION; a.k.a. NAMCHONGANG TRADING; a.k.a. NAMHUNG; a.k.a. NOMCHONGANG TRADING CO.; a.k.a. “NCG”), Pyongyang, Korea, North; Chilgol, Mangyongdae District, Pyongyang, Korea, North; Secondary sanctions risk: North Korea Sanctions Regulations sections 510.201 and 510.210 [NPWMD].

187. NAMGANG CONSTRUCTION, Korea, North; Secondary sanctions risk: North Korea Sanctions Regulations sections 510.201 and 510.210 [DPRK3].

188. NATIONAL AEROSPACE DEVELOPMENT ADMINISTRATION (a.k.a. “NADA”), Korea, North; Secondary sanctions risk: North Korea Sanctions Regulations sections 510.201 and 510.210 [NPWMD].

189. NATIONAL DEFENSE COMMISSION, Pyongyang, Korea, North; Secondary sanctions risk: North Korea Sanctions Regulations sections 510.201 and 510.210 [DPRK2].

190. NEPTUN Russia flag; Secondary sanctions risk: North Korea Sanctions Regulations, sections 510.201 and 510.210; Vessel Registration Identification IMO 8404991 (vessel) [DPRK4] (Linked To: GUDZON SHIPPING CO LLC).

191. NORTH EAST ASIA BANK, Haebangsan-dong, Central District, Pyongyang, Korea, North; SWIFT/BIC NEABKPPY; Secondary sanctions risk: North Korea Sanctions Regulations sections 510.201 and 510.210; all offices worldwide [DPRK3].

192. O UN CHONG NYON HO General Cargo Democratic People's Republic of Korea flag; Secondary sanctions risk: North Korea Sanctions Regulations sections 510.201 and 510.210; Vessel Registration Identification IMO 8330815 (vessel) [DPRK].

193. OCEAN BUNKERING JV CO, Otan-dong, Chung-guyok, Pyongyang, Korea, North; Secondary sanctions risk: North Korea Sanctions Regulations sections 510.201 and 510.210; Vessel Registration Identification IMO 4199470 [DPRK3].

194. OCEAN MARITIME MANAGEMENT COMPANY LIMITED (a.k.a. EAST SEA SHIPPING COMPANY; a.k.a. HAEYANG CREW MANAGEMENT COMPANY; a.k.a. KOREA MIRAE SHIPPING CO. LTD.), Dongheung-dong Changgwang Street, Chung-ku, PO Box 125, Pyongyang, Korea, North; Donghung Dong, Central District, PO Box 120, Pyongyang, Korea, North; No. 10, 10th Floor, Unit 1, Wu Wu Lu 32-1, Zhong Shan Qu, Dalian City, Liaoning Province, China; 22 Jin Cheng Jie, Zhong Shan Qu, Dalian City, Liaoning Province, China; 43-39 Lugovaya, Vladivostok, Russia; CPO Box 120, Tonghung-dong, Chung-gu, Pyongyang, Korea, North; Bangkok, Thailand; Lima, Peru; Port Said, Egypt; Singapore; Brazil; Hong Kong, China; Shenzhen, China; Secondary sanctions risk: North Korea Sanctions Regulations sections 510.201 and 510.210; Identification Number IMO 1790183 [DPRK].

195. OFFICE 39 (a.k.a. BUREAU 39; a.k.a. CENTRAL COMMITTEE BUREAU 39; a.k.a. DIVISION 39; a.k.a. OFFICE #39; a.k.a. OFFICE NO. 39; a.k.a. “THIRD FLOOR”), Second KWP Government Building (Korean-Ch′o′ngsa), Chungso′ng, Urban Town (Korean-Dong), Chung Ward, Pyongyang, Korea, North; Chung-Guyok (Central District), Sosong Street, Kyongrim-Dong, Pyongyang, Korea, North; Changgwang Street, Pyongyang, Korea, North; Secondary sanctions risk: North Korea Sanctions Regulations sections 510.201 and 510.210 [DPRK].

196. ORGANIZATION AND GUIDANCE DEPARTMENT, Korea, North; Secondary sanctions risk: North Korea Sanctions Regulations sections 510.201 and 510.210 [DPRK2].

197. ORIENTAL TREASURE 9,038DWT Comoros flag; Secondary sanctions risk: North Korea Sanctions Regulations sections 510.201 and 510.210; Vessel Registration Identification IMO 9115028 (vessel) [DPRK4] (Linked To: HONGXIANG MARINE HONG KONG LTD).

198. ORION STAR; Secondary sanctions risk: North Korea Sanctions Regulations sections 510.201 and 510.210; Vessel Registration Identification IMO 9333589 (vessel) [DPRK] (Linked To: OCEAN MARITIME MANAGEMENT COMPANY LIMITED).

199. P-532; Aircraft Manufacture Date 1974; Aircraft Model AN24-RV; Aircraft Operator Air Koryo; Secondary sanctions risk: North Korea Sanctions Regulations sections 510.201 and 510.210 (aircraft) [DPRK3].

200. P-533; Aircraft Manufacture Date 1974; Aircraft Model AN24-RV; Aircraft Operator Air Koryo; Secondary sanctions risk: North Korea Sanctions Regulations sections 510.201 and 510.210 (aircraft) [DPRK3].

201. P-537; Aircraft Manufacture Date 1966; Aircraft Model AN24-B; Aircraft Operator Air Koryo; Secondary sanctions risk: North Korea Sanctions Regulations sections 510.201 and 510.210 (aircraft) [DPRK3].

202. P-552; Aircraft Manufacture Date 1976; Aircraft Model T154-B; Aircraft Operator Air Koryo; Secondary sanctions risk: North Korea Sanctions Regulations sections 510.201 and 510.210 (aircraft) [DPRK3].

203. P-561; Aircraft Manufacture Date 1983; Aircraft Model T154-B; Aircraft Operator Air Koryo; Secondary sanctions risk: North Korea Sanctions Regulations sections 510.201 and 510.210 (aircraft) [DPRK3].

204. P-632; Aircraft Manufacture Date 1994; Aircraft Model T204-300; Aircraft Operator Air Koryo; Secondary sanctions risk: North Korea Sanctions Regulations sections 510.201 and 510.210 (aircraft) [DPRK3].

205. P-633; Aircraft Manufacture Date 2009; Aircraft Model T204-100; Aircraft Operator Air Koryo; Secondary sanctions risk: North Korea Sanctions Regulations sections 510.201 and 510.210 (aircraft) [DPRK3].

206. P-671; Aircraft Manufacture Date 2012; Aircraft Model A148-100; Aircraft Operator Air Koryo; Secondary sanctions risk: North Korea Sanctions Regulations sections 510.201 and 510.210 (aircraft) [DPRK3].

207. P-672; Aircraft Manufacture Date 2015; Aircraft Model A148-100; Aircraft Operator Air Koryo; Secondary sanctions risk: North Korea Sanctions Regulations sections 510.201 and 510.210 (aircraft) [DPRK3].

208. P-813; Aircraft Manufacture Date 1983; Aircraft Model T134-B; Aircraft Operator Air Koryo; Secondary sanctions risk: North Korea Sanctions Regulations sections 510.201 and 510.210 (aircraft) [DPRK3].

209. P-835; Aircraft Manufacture Date 1969; Aircraft Model IL18-D; Aircraft Operator Air Koryo; Secondary sanctions risk: North Korea Sanctions Regulations sections 510.201 and 510.210 (aircraft) [DPRK3].

210. P-881; Aircraft Manufacture Date 1986; Aircraft Model IL62-M; Aircraft Operator Air Koryo; Secondary sanctions risk: North Korea Sanctions Regulations sections 510.201 and 510.210 (aircraft) [DPRK3].

211. P-885; Aircraft Manufacture Date 1979; Aircraft Model IL62-M; Aircraft Operator Air Koryo; Secondary sanctions risk: North Korea Sanctions Regulations sections 510.201 and 510.210 (aircraft) [DPRK3].

212. P-912; Aircraft Manufacture Date 1990; Aircraft Model IL76-TD; Aircraft Operator Air Koryo; Secondary sanctions risk: North Korea Sanctions Regulations sections 510.201 and 510.210 (aircraft) [DPRK3].

213. P-913; Aircraft Manufacture Date 1990; Aircraft Model IL76-TD; Aircraft Operator Air Koryo; Secondary sanctions risk: North Korea Sanctions Regulations sections 510.201 and 510.210 (aircraft) [DPRK3].

214. P-914; Aircraft Manufacture Date 1990; Aircraft Model IL76-TD; Aircraft Operator Air Koryo; Secondary sanctions risk: North Korea Sanctions Regulations sections 510.201 and 510.210 (aircraft) [DPRK3].

215. PAEK MA Democratic People's Republic of Korea flag; Secondary sanctions risk: North Korea Sanctions Regulations sections 510.201 and 510.210; Vessel Registration Identification IMO 9066978 (vessel) [DPRK4] (Linked To: PAEKMA SHIPPING CO; Linked To: FIRST OIL JV CO LTD).

216. PAEKMA SHIPPING CO, Care of First Oil JV Co Ltd, Jongbaek 1-dong, Rakrang-guyok, Pyongyang, Korea, North; Secondary sanctions risk: North Korea Sanctions Regulations sections 510.201 and 510.210; Company Number IMO 5999479 [DPRK4].

217. PAEKSOL TRADING CORPORATION (a.k.a. BAEKSOL TRADING; a.k.a. BAEKSUL TRADING; a.k.a. KOREA PAEK SOL TRADING; a.k.a. PAEK SOL TRADING CORPORATION; a.k.a. PAEKSO′L CORPORATION; a.k.a. PAEKSO′L TRADING CORPORATION), Korea, North; Secondary sanctions risk: North Korea Sanctions Regulations sections 510.201 and 510.210 [DPRK3].

218. PARTIZAN Russia flag; Secondary sanctions risk: North Korea Sanctions Regulations, sections 510.201 and 510.210; Vessel Registration Identification IMO 9113020 (vessel) [DPRK4] (Linked To: GUDZON SHIPPING CO LLC).

219. PATRIOT Russia flag; Secondary sanctions risk: North Korea Sanctions Regulations, sections 510.201 and 510.210; Vessel Registration Identification IMO 9003550 (vessel) [DPRK4] (Linked To: PRIMORYE MARITIME LOGISTICS CO LTD; Linked To: GUDZON SHIPPING CO LLC).

220. PHO THAE General Cargo Democratic People's Republic of Korea flag; Secondary sanctions risk: North Korea Sanctions Regulations sections 510.201 and 510.210; Vessel Registration Identification IMO 7632955 (vessel) [DPRK].

221. PHYONGCHON SHIPPING & MARINE (a.k.a. PHYONGCHON SHIPPING AND MARINE), Otan-dong, Chung-guyok, Pyongyang, Korea, North; Secondary sanctions risk: North Korea Sanctions Regulations sections 510.201 and 510.210; Company Number IMO 5878561 [DPRK4].

222. PI RUY GANG General Cargo Democratic People's Republic of Korea flag; Secondary sanctions risk: North Korea Sanctions Regulations sections 510.201 and 510.210; Vessel Registration Identification IMO 8829593 (vessel) [DPRK].

223. PO CHON Democratic People's Republic of Korea flag; Secondary sanctions risk: North Korea Sanctions Regulations sections 510.201 and 510.210; Vessel Registration Identification IMO 8848276 (vessel) [DPRK4] (Linked To: POCHON SHIPPING & MANAGEMENT).

224. PO THONG GANG General Cargo Democratic People's Republic of Korea flag; Secondary sanctions risk: North Korea Sanctions Regulations sections 510.201 and 510.210; Vessel Registration Identification IMO 8829555 (vessel) [DPRK].

225. POCHON SHIPPING & MANAGEMENT (a.k.a. POCHON SHIPPING AND MANAGEMENT), Sonnae-dong, Mangyongdae-guyok, Pyongyang, Korea, North; Secondary sanctions risk: North Korea Sanctions Regulations sections 510.201 and 510.210; Company Number IMO 5990271 [DPRK4].

226. PRIMORYE MARITIME LOGISTICS CO LTD (a.k.a. “PML CO LTD”), 01 ul Tigorovaya 20A, Vladivostok, Primorskiy kray 690091, Russia; Secondary sanctions risk: North Korea Sanctions Regulations, sections 510.201 and 510.210; Company Number IMO 5993381 [DPRK4].

227. PROFINET PTE. LTD. (Cyrillic: ООО ПРОФИНЕТ) (a.k.a. OBSHCHESTVO S OGRANICHENNOI OTVETSTVENNOSTYU PROFINET; a.k.a. PROFINET AGENCY; a.k.a. PROFINET, OOO), 46, ul. Malinovskogo, Nakhodka, Primorski Kr. 692919, Russia; office 2, 30, Pogranichnaya Street, Nakhodka, Primorskiy Region 692922, Russia; Pogranichnaya str. 30-2, Nakhodka 692922, Russia; Secondary sanctions risk: North Korea Sanctions Regulations, sections 510.201 and 510.210 [DPRK4].

228. PRO-GAIN GROUP CORPORATION, 8th Floor, Number 466, Section 2, Neihu Road, Taipei, Taiwan; Le Sanalele Complex, Ground Floor, Vaea Street, Saleufi, Apia, Samoa; Taiwan; Samoa; Secondary sanctions risk: North Korea Sanctions Regulations sections 510.201 and 510.210 [DPRK3] (Linked To: TSANG, Yung Yuan).

229. PU HUNG 1 Democratic People's Republic of Korea flag; Secondary sanctions risk: North Korea Sanctions Regulations sections 510.201 and 510.210; Vessel Registration Identification IMO 8703933 (vessel) [DPRK4] (Linked To: KOREA RUNGRADO SHIPPING CO).

230. PYONGJIN SHIP MANAGEMENT COMPANY LIMITED, Ryukkyo 1-dong, Pyongchon-guyok, Pyongyang, Korea, North; 102 Ryuggyo 1-dong, Pyongchon District, Pyongyang, Korea, North; Secondary sanctions risk: North Korea Sanctions Regulations sections 510.201 and 510.210; Identification Number IMO 5817790 [DPRK].

231. QINGDAO CONSTRUCTION (NAMIBIA) CC, ERF 338, Platinum Street, Prosperita, Windhoek, Namibia; P.O. Box 26774, Windhoek, Namibia; Secondary sanctions risk: North Korea Sanctions Regulations sections 510.201 and 510.210; Registration ID 2008/0598 (Namibia) [DPRK3] (Linked To: MANSUDAE OVERSEAS PROJECTS ARCHITECTURAL AND TECHNICAL SERVICES (PTY) LIMITED; Linked To: MANSUDAE OVERSEAS PROJECT GROUP OF COMPANIES).

232. RA NAM 2 Democratic People's Republic of Korea flag; Secondary sanctions risk: North Korea Sanctions Regulations sections 510.201 and 510.210; Vessel Registration Identification IMO 8625545 (vessel) [DPRK3] (Linked To: KOREA SAMILPO SHIPPING CO).

233. RA NAM 3 Democratic People's Republic of Korea flag; Secondary sanctions risk: North Korea Sanctions Regulations sections 510.201 and 510.210; Vessel Registration Identification IMO 9314650 (vessel) [DPRK3] (Linked To: KOREA SAMILPO SHIPPING CO).

234. RAK RANG Democratic People's Republic of Korea flag; Secondary sanctions risk: North Korea Sanctions Regulations sections 510.201 and 510.210; Vessel Registration Identification IMO 7506118 (vessel) [DPRK4] (Linked To: KOREA DAEBONG SHIPPING CO).

235. RAK WON 2 General Cargo Democratic People's Republic of Korea flag; Secondary sanctions risk: North Korea Sanctions Regulations sections 510.201 and 510.210; Vessel Registration Identification IMO 8819017 (vessel) [DPRK].

236. RASON INTERNATIONAL COMMERCIAL BANK, Rason, Korea, North; Secondary sanctions risk: North Korea Sanctions Regulations sections 510.201 and 510.210; all offices worldwide [DPRK3].

237. RECONNAISSANCE GENERAL BUREAU (a.k.a. CHONGCH'AL CH'ONGGUK; a.k.a. KPA UNIT 586; a.k.a. “RGB”), Hyongjesan-Guyok, Pyongyang, Korea, North; Nungrado, Pyongyang, Korea, North; Secondary sanctions risk: North Korea Sanctions Regulations sections 510.201 and 510.210 [DPRK] [DPRK2].

238. RUNG RA 1 Democratic People's Republic of Korea flag; Secondary sanctions risk: North Korea Sanctions Regulations sections 510.201 and 510.210; Vessel Registration Identification IMO 8713457 (vessel) [DPRK4] (Linked To: KOREA RUNGRADO RYONGAK TRADING CO).

239. RUNG RA 2 Democratic People's Republic of Korea flag; Secondary sanctions risk: North Korea Sanctions Regulations sections 510.201 and 510.210; Vessel Registration Identification IMO 9020534 (vessel) [DPRK4] (Linked To: KOREA RUNGRADO RYONGAK TRADING CO).

240. RUNG RA DO Democratic People's Republic of Korea flag; Secondary sanctions risk: North Korea Sanctions Regulations sections 510.201 and 510.210; Vessel Registration Identification IMO 8989795 (vessel) [DPRK4] (Linked To: KOREA RUNGRADO SHIPPING CO).

241. RYE SONG GANG 1 Democratic People's Republic of Korea flag; Secondary sanctions risk: North Korea Sanctions Regulations sections 510.201 and 510.210; Vessel Registration Identification IMO 7389704 (vessel) [DPRK4] (Linked To: KOREA KUMBYOL TRADING COMPANY).

242. RYO MYONG Democratic People's Republic of Korea flag; Secondary sanctions risk: North Korea Sanctions Regulations sections 510.201 and 510.210; Vessel Registration Identification IMO 8987333 (vessel) [DPRK3] (Linked To: KOREAN POLISH SHPG CO LTD).

243. RYONG GANG 2 General Cargo Democratic People's Republic of Korea flag; Secondary sanctions risk: North Korea Sanctions Regulations sections 510.201 and 510.210; Vessel Registration Identification IMO 7640378 (vessel) [DPRK].

244. RYONG GUN BONG General Cargo Democratic People's Republic of Korea flag; Secondary sanctions risk: North Korea Sanctions Regulations sections 510.201 and 510.210; Vessel Registration Identification 8606173 (vessel) [DPRK].

245. RYUGYONG COMMERCIAL BANK, Korea, North; Beijing, China; Dandong, China; Secondary sanctions risk: North Korea Sanctions Regulations sections 510.201 and 510.210 [DPRK4].

246. SAM JONG 1 Democratic People's Republic of Korea flag; Secondary sanctions risk: North Korea Sanctions Regulations sections 510.201 and 510.210; Vessel Registration Identification IMO 8405311 (vessel) [DPRK4] (Linked To: KOREA SAMJONG SHIPPING CO).

247. SAM JONG 2 Democratic People's Republic of Korea flag; Secondary sanctions risk: North Korea Sanctions Regulations sections 510.201 and 510.210; Vessel Registration Identification IMO 7408873 (vessel) [DPRK4] (Linked To: KOREA SAMJONG SHIPPING CO).

248. SAM MA 2 Democratic People's Republic of Korea flag; Secondary sanctions risk: North Korea Sanctions Regulations sections 510.201 and 510.210; Vessel Registration Identification IMO 8106496 (vessel) [DPRK4] (Linked To: KOREA SAMMA SHPG CO).

249. SECOND ACADEMY OF NATURAL SCIENCES (a.k.a. 2ND ACADEMY OF NATURAL SCIENCES; a.k.a. ACADEMY OF NATURAL SCIENCES; a.k.a. CHAYON KWAHAK-WON; a.k.a. CHE 2 CHAYON KWAHAK-WON; a.k.a. KUKPANG KWAHAK-WON; a.k.a. NATIONAL DEFENSE ACADEMY; a.k.a. SANSRI; a.k.a. SECOND ACADEMY OF NATURAL SCIENCES RESEARCH INSTITUTE), Pyongyang, Korea, North; Secondary sanctions risk: North Korea Sanctions Regulations sections 510.201 and 510.210 [NPWMD].

250. SECOND ECONOMIC COMMITTEE, Kangdong, Korea, North; Secondary sanctions risk: North Korea Sanctions Regulations sections 510.201 and 510.210 [NPWMD].

251. SENAT SHIPPING LIMITED (a.k.a. SENAT SHIPPING & TRADING PTE LTD; a.k.a. SENAT SHIPPING AGENCY LTD; a.k.a. SENAT SHIPPING AND TRADING LTD; a.k.a. SENAT SHIPPING AND TRADING PRIVATE LIMITED), 36-02 A, Suntec Tower, 9, Temasek Boulevard, Singapore 038989, Singapore; 9 Temasek Boulevard, 36-02A, Singapore 038989, Singapore; Panama City, Panama; PO Box 957, Offshore Incorporations Centre Road Town, Tortola, Virgin Islands, British; Secondary sanctions risk: North Korea Sanctions Regulations sections 510.201 and 510.210; Identification Number IMO 5179245; alt. Identification Number IMO 5405737 [DPRK].

252. SEVASTOPOL Russia flag; Secondary sanctions risk: North Korea Sanctions Regulations, sections 510.201 and 510.210; Vessel Registration Identification IMO 9235127 (vessel) [DPRK4] (Linked To: GUDZON SHIPPING CO LLC).

253. SHANGHAI DONGFENG SHPG CO LTD, Room 601, 433, Chifeng Lu, Hongkou Qu, Shanghai 200083, China; Secondary sanctions risk: North Korea Sanctions Regulations sections 510.201 and 510.210; Company Number IMO 5721069 [DPRK4].

255. SINGWANG ECONOMICS AND TRADING GENERAL CORPORATION, Korea, North; Secondary sanctions risk: North Korea Sanctions Regulations sections 510.201 and 510.210 [DPRK3].

256. SINSMS PTE. LTD. (a.k.a. SUN MOON STAR (SINGAPORE) LTD.), 24 Mohamed Sultan Road, Singapore 239012, Singapore; Secondary sanctions risk: North Korea Sanctions Regulations, sections 510.201 and 510.210; Registration Number 201318227N (Singapore) [DPRK4].

257. SO BAEK SAN Democratic People's Republic of Korea flag; Secondary sanctions risk: North Korea Sanctions Regulations sections 510.201 and 510.210; Vessel Registration Identification IMO 8658267 (vessel) [DPRK4] (Linked To: KOREA KUMBYOL TRADING COMPANY).

258. SONG WON Democratic People's Republic of Korea flag; Secondary sanctions risk: North Korea Sanctions Regulations sections 510.201 and 510.210; Vessel Registration Identification IMO 8613360 (vessel) [DPRK4] (Linked To: SONGWON SHIPPING & MANAGEMENT).

259. SONGI TRADING COMPANY, Korea, North; Secondary sanctions risk: North Korea Sanctions Regulations sections 510.201 and 510.210 [DPRK3].

260. SONGWON SHIPPING & MANAGEMENT (a.k.a. SONGWON SHIPPING AND MANAGEMENT), Somun-dong, Chung-guyok, Pyongyang, Korea, North; Secondary sanctions risk: North Korea Sanctions Regulations sections 510.201 and 510.210; Company Number IMO 5990268 [DPRK4].

261. SOUTH HILL 2 Sierra Leone flag; Secondary sanctions risk: North Korea Sanctions Regulations sections 510.201 and 510.210; Vessel Registration Identification IMO 8412467 (vessel) [DPRK] (Linked To: OCEAN MARITIME MANAGEMENT COMPANY LIMITED).

262. SOUTH HILL 5 Palau flag; Secondary sanctions risk: North Korea Sanctions Regulations sections 510.201 and 510.210; Vessel Registration Identification IMO 9138680 (vessel) [DPRK] (Linked To: OCEAN MARITIME MANAGEMENT COMPANY LIMITED).

263. STATE AFFAIRS COMMISSION, Korea, North; Secondary sanctions risk: North Korea Sanctions Regulations sections 510.201 and 510.210 [DPRK3].

264. STATE PLANNING COMMISSION, Korea, North; Secondary sanctions risk: North Korea Sanctions Regulations sections 510.201 and 510.210 [DPRK3].

265. STRATEGIC ROCKET FORCE OF THE KOREAN PEOPLE'S ARMY (a.k.a. STRATEGIC ROCKET FORCE; a.k.a. THE STRATEGIC ROCKET FORCE COMMAND OF KPA; a.k.a. “STRATEGIC FORCE”; a.k.a. “STRATEGIC FORCES”), Pyongyang, Korea, North; Secondary sanctions risk: North Korea Sanctions Regulations sections 510.201 and 510.210 [NPWMD].

266. TAE DONG GANG General Cargo Democratic People's Republic of Korea flag; Secondary sanctions risk: North Korea Sanctions Regulations sections 510.201 and 510.210; Vessel Registration Identification IMO 7738656 (vessel) [DPRK].

267. TANCHON COMMERCIAL BANK (f.k.a. CHANGGWANG CREDIT BANK; f.k.a. KOREA CHANGGWANG CREDIT BANK), Saemul 1-Dong Pyongchon District, Pyongyang, Korea, North; Secondary sanctions risk: North Korea Sanctions Regulations sections 510.201 and 510.210 [NPWMD].

268. THAE PYONG SAN Democratic People's Republic of Korea flag; Secondary sanctions risk: North Korea Sanctions Regulations sections 510.201 and 510.210; Vessel Registration Identification IMO 9009085 (vessel) [DPRK3] (Linked To: THAEPHYONGSAN SHIPPING CO LTD).

269. THAEPHYONGSAN SHIPPING CO LTD, Room 402, 90, Sochon-dong, Sosong-guyok, Pyongyang, Korea, North; Secondary sanctions risk: North Korea Sanctions Regulations sections 510.201 and 510.210; Vessel Registration Identification IMO 5878575 [DPRK3].

270. TONG HUNG 1 Democratic People's Republic of Korea flag; Secondary sanctions risk: North Korea Sanctions Regulations sections 510.201 and 510.210; Vessel Registration Identification IMO 8661575 (vessel) [DPRK3] (Linked To: KOREA ZUZAGBONG MARITIME LTD).

271. TONG HUNG 5 Democratic People's Republic of Korea flag; Secondary sanctions risk: North Korea Sanctions Regulations sections 510.201 and 510.210; Vessel Registration Identification IMO 8151415 (vessel) [DPRK4] (Linked To: TONGHUNG SHIPPING & TRADING CO).

272. TONGHUNG SHIPPING & TRADING CO (a.k.a. TONGHUNG SHIPPING AND TRADING CO), Kinmaul-dong, Moranbong-guyok, Pyongyang, Korea, North; Secondary sanctions risk: North Korea Sanctions Regulations sections 510.201 and 510.210; Company Number IMO 1991835 [DPRK4].

273. TOSONG TECHNOLOGY TRADING CORPORATION, Pyongyang, Korea, North; Secondary sanctions risk: North Korea Sanctions Regulations sections 510.201 and 510.210 [NPWMD].

274. TRANS MERITS CO. LTD., 1F, No. 49, Lane 280, Kuang Fu S. Road, Taipei, Taiwan; Secondary sanctions risk: North Korea Sanctions Regulations sections 510.201 and 510.210; Business Registration Document # 16316976 (Taiwan) [NPWMD].

275. TRANS MULTI MECHANICS CO. LTD. (a.k.a. FENG SHENG CO., LTD.), 19, Chin Ho Lane, Chung Cheng Rd., Taya District, Taichung City, Taiwan; No 19, Jinhe Lane, Zhongzheng Road, Daya District, Taichung City, Taiwan; Secondary sanctions risk: North Korea Sanctions Regulations sections 510.201 and 510.210 [NPWMD].

276. TRANSATLANTIC PARTNERS PTE. LTD., 10 Anson Road, #29-05A, International Plaza 079903, Singapore; Secondary sanctions risk: North Korea Sanctions Regulations sections 510.201 and 510.210 [DPRK3].

277. UL JI BONG 6 Democratic People's Republic of Korea flag; Secondary sanctions risk: North Korea Sanctions Regulations sections 510.201 and 510.210; Vessel Registration Identification IMO 9114555 (vessel) [DPRK4] (Linked To: CK INTERNATIONAL LTD).

278. UN RYUL Democratic People's Republic of Korea flag; Secondary sanctions risk: North Korea Sanctions Regulations sections 510.201 and 510.210; Vessel Registration Identification IMO 8514409 (vessel) [DPRK4] (Linked To: KOREA MARINE & INDUSTRIAL TRDG).

279. VELMUR MANAGEMENT PTE LTD, 2 Marina Blvd., No. 66-08, The Sail at Marina Bay 018987, Singapore; Secondary sanctions risk: North Korea Sanctions Regulations sections 510.201 and 510.210 [DPRK3] (Linked To: TRANSATLANTIC PARTNERS PTE. LTD.).

280. VICTORY 2 Mongolia flag; Secondary sanctions risk: North Korea Sanctions Regulations sections 510.201 and 510.210; Vessel Registration Identification IMO 8312227 (vessel) [DPRK3] (Linked To: KOREAN BUYON SHIPPING CO. LTD.).

281. VOLASYS SILVER STAR, 41 Ulitsa Klary Tsetskin, Vladivostok, Russia; Secondary sanctions risk: North Korea Sanctions Regulations, sections 510.201 and 510.210 [DPRK3] [DPRK4].

282. WEIHAI WORLD-SHIPPING FREIGHT, 419-201, Tongyi Lu, Huancui Qu, Weihai, Shandong 264200, China; Secondary sanctions risk: North Korea Sanctions Regulations sections 510.201 and 510.210; Company Number IMO 5905801 [DPRK4].

283. WON SAN 2 Democratic People's Republic of Korea flag; Secondary sanctions risk: North Korea Sanctions Regulations sections 510.201 and 510.210; Vessel Registration Identification IMO 9159787 (vessel) [DPRK4] (Linked To: YUSONG SHIPPING CO).

284. WOORY STAR Democratic People's Republic of Korea flag; Secondary sanctions risk: North Korea Sanctions Regulations sections 510.201 and 510.210; Vessel Registration Identification IMO 8408595 (vessel) [DPRK4] (Linked To: PHYONGCHON SHIPPING & MARINE).

285. WORKERS' PARTY OF KOREA CENTRAL MILITARY COMMISSION, Pyongyang, Korea, North; Secondary sanctions risk: North Korea Sanctions Regulations sections 510.201 and 510.210 [DPRK2].

286. XIN GUANG HAI 7,067DWT; Secondary sanctions risk: North Korea Sanctions Regulations sections 510.201 and 510.210; Vessel Registration Identification IMO 9004700 (vessel) [DPRK4] (Linked To: WEIHAI WORLD-SHIPPING FREIGHT).

288. YANG GAK DO Democratic People's Republic of Korea flag; Secondary sanctions risk: North Korea Sanctions Regulations sections 510.201 and 510.210; Vessel Registration Identification IMO 6401828 (vessel) [DPRK4] (Linked To: KOREA RUNGRADO SHIPPING CO).

290. YU JONG 2 Democratic People's Republic of Korea flag; Secondary sanctions risk: North Korea Sanctions Regulations sections 510.201 and 510.210; Vessel Registration Identification IMO 8604917 (vessel) [DPRK4] (Linked To: KOREA YUJONG SHIPPING CO LTD).

291. YU PHYONG 5 Democratic People's Republic of Korea flag; Secondary sanctions risk: North Korea Sanctions Regulations sections 510.201 and 510.210; Vessel Registration Identification IMO 8605026 (vessel) [DPRK4] (Linked To: KOREA MYONGDOK SHIPPING CO).

292. YU SON Democratic People's Republic of Korea flag; Secondary sanctions risk: North Korea Sanctions Regulations sections 510.201 and 510.210; Vessel Registration Identification IMO 8691702 (vessel) [DPRK4] (Linked To: MYOHYANG SHIPPING CO).

293. YU SONG 12 Democratic People's Republic of Korea flag; Secondary sanctions risk: North Korea Sanctions Regulations sections 510.201 and 510.210; Vessel Registration Identification IMO 9096791 (vessel) [DPRK4] (Linked To: YUSONG SHIPPING CO).

294. YU SONG 7 Democratic People's Republic of Korea flag; Secondary sanctions risk: North Korea Sanctions Regulations sections 510.201 and 510.210; Vessel Registration Identification IMO 8400854 (vessel) [DPRK4] (Linked To: YUSONG SHIPPING CO).

295. YUK TUNG ENERGY PTE LTD, 17-22, UOB Plaza 2, Raffles Place 048624, Singapore; Secondary sanctions risk: North Korea Sanctions Regulations sections 510.201 and 510.210; Company Number IMO 5987860 [DPRK4].

296. YUK TUNG; Secondary sanctions risk: North Korea Sanctions Regulations sections 510.201 and 510.210; Vessel Registration Identification IMO 9030591 (vessel) [DPRK4] (Linked To: YUK TUNG ENERGY PTE LTD).

297. YUSONG SHIPPING CO, Uiam-dong, Taedonggang-guyok, Pyongyang, Korea, North; Secondary sanctions risk: North Korea Sanctions Regulations sections 510.201 and 510.210; Nationality of Registration Korea, North; Company Number 5146578 [DPRK4].

298. ZA RYOK 2 Democratic People's Republic of Korea flag; Secondary sanctions risk: North Korea Sanctions Regulations sections 510.201 and 510.210; Vessel Registration Identification IMO 8898738 (vessel) [DPRK4] (Linked To: YUSONG SHIPPING CO).

Dated: October 4, 2018.
Andrea M. Gacki,
Director, Office of Foreign Assets Control.

[FR Doc. 2018-21955 Filed 10-9-18; 8:45 am]

BILLING CODE 4810-AL-P